DEPARTMENT OF HOUSING AND URBAN DEVELOPMENT

[Docket No. FR-4412-FA-03; FR-4413-FA-03; and FR-4415-FA-03; and FR-4416-FA-03]

Announcement of Funding Awards; Office of Public and Indian Housing FY 1999 Awards for the Housing Choice Voucher Programs

AGENCY: Office of the Assistant Secretary for Public and Indian Housing, HUD.

ACTION: Announcement of funding awards.

SUMMARY: In accordance with section 102(a)(4)(c) of the Department of Housing and Urban Development Reform Act of 1989, this announcement notifies the public of funding awards for Fiscal Year (FY) 1999 to housing agencies and non-profit agencies under the housing choice voucher programs. The purpose of this Notice is to publish the names and addresses of the award winners and the amount of the awards made available by HUD to provide rental assistance to very low income families.

FOR FURTHER INFORMATION CONTACT: Michael Diggs, Director, Grants Management Center, Office of Public and Indian Housing, Department of Housing and Urban Development, 501 Schools Street, SW., Suite 800, Washington, DC 20024, telephone 202/358-0273. For the hearing or speech impaired, these numbers may be accessed via TTY (text telephone) by calling the Federal Information Relay Service at 1-800-877-8339. (Other than the “800” TTY number, these telephone numbers are not toll-free).

SUPPLEMENTARY INFORMATION: The regulations governing the housing choice voucher programs are published at 24 CFR part 982. The regulations for allocating housing assistance budget authority under section 213(d) of the Housing and Community Development Act of 1974 are published at 24 CFR part 791, subpart D.

The purpose of the housing choice voucher programs is to assist eligible families to pay the rent for decent, safe, and sanitary housing, or to purchase a modest home. The FY 1999 awards announced in this notice were selected for funding consistent with the provisions in the Notices of Funding Availability (NOFAs) published in the Federal Register on March 5, 1999 (64 FR 10904), March 8, 1999 (64 FR 11278; 11294; 11302; 11310), and July 27, 1999 (64 FR 40686).

The March 5, 1999 (64 FR 10904) NOFA made available housing choice vouchers from the Family Unification Program to assist families for who the lack of adequate housing is a primary factor in the separation, or imminent separation of children from their families. The March 8, 1999 NOFAs made available housing choice vouchers for: (a) Persons with disabilities in support of designated housing allocation plans (64 FR 11294); (b) non-elderly disabled families in connection with certain Section 8 project based developments where the owner has established a preference for admission of elderly households (64 FR 11310); and (c) persons with disabilities under the Mainstream housing Program (64 FR 11302).

The March 8, 1999 (64 FR 11278) and July 27, 1999 (64 FR 40686) NOFA's made available Family Self-Sufficiency (FSS) Coordinator funds to hire FSS program coordinators.

A total of $151,644,990 in budget authority for 17,960 housing choice vouchers was awarded to recipients. A total of $28,499,099 in budget was awarded to hire FSS program coordinators, $75,318 was used to fund FY 1998 eligible recipients that were not funded.

The Catalog of Federal Domestic Assistance numbers for this program are 14.855 and 14.857.

In accordance with section 102(a)(4)(c) of the Department of Housing and Urban Development Reform Act of 1989 (103 Stat. 11987, 42 U.S.C. 3545), the Department is publishing the names, addresses, and amounts of those awards as show in Appendix A.

Dated: December 13, 2000.
Milan Ozdinec,
Acting General Deputy Assistant Secretary for Public and Indian Housing.

Appendix A

Fiscal Year 1999 Funding Awards for Mainstream Housing Opportunities for Persons With Disabilities—1 Year
Applicant name | Address | City | State | Zip | Amount
Jefferson County Housing Authority | 3700 Industrial Parkway | Birmingham | Alabama | 35217- | $272,794
Alameda City Housing Authority | 701 Atlantic Avenue | Alameda City | California | 94501- | 462,492
Anaheim Housing Authority | 210 S. Anaheim Blvd., Suite 203 | Anaheim | California | 92805- | 367,336
City of Carlsbad | 2965 Roosevelt Street, Suite B | Carlsbad | California | 92008- | 283,971
City of Fresno Housing Authority | P.O. Box 11985 | Fresno | California | 93776-1985 | 212,095
County of Fresno Housing Authority | P.O. Box 11985 | Fresno | California | 93776-1985 | 212,095
Kern County | 525 Roberts Lane | Kern County | California | 93308- | 171,643
San Bernardino County | 1053 North “D” Street | San Bernardino | California | 92410- | 353,686
San Francisco Housing Authority | 440 Turk Street | San Francisco | California | 94102- | 599,866
San Joe City Housing Authority | 505 W. Julian Street | San Jose | California | 95110- | 628,467
Aurora Housing Authority | 10745 East Kentucky Avenue | Aurora | Colorado | 80012- | 386,297
Denver Housing Authority | P.O. Box 40305 | Denver | Colorado | 80204- | 280,625
Jefferson County Housing Authority | 6025 West 38th Avenue | Wheat Ridge | Colorado | 80033- | 215,345
New Britain Housing Authority | 34 Merimac Road | New Britain | Connecticut | 06053- | 467,424
Windsor Housing Authority | 35 Mack Street | Windsor | Connecticut | 06095- | 29,942
City of Cocoa Housing Authority | 615 Kuret Court | Merrit | Florida | 32953- | 342,936
Hialeah Housing Authority | 70 East 7th Street | Hialeah | Florida | 33010- | 327,067
Atlanta Housing Authority | 1720 Peachtree St. NW | Atlanta | Georgia |  | 415,440
Rome Housing Authority | 800 North Fifth Avenue | Rome | Georgia | 30162-1425 | 161,071
GHURA | 117 Bien Venida Avenue | Sinajana | Guam | 96296- | 560,498
Chicago Housing Authority | 626 West Jackson Blvd | Chicago | Illinois | 60661- | 383,106
Fort Wayne Housing Authority | 2013 S. Anthony Blvd | Ft. Wayne | Indiana | 46803- | 201,996
Mid-Iowa Regional Housing Authority | 1814 Central Avenue | Fort Dodge | Indiana | 50501-4236 | 74,274
Noblesville Housing Authority | 320 Kings Land | Noblesville | Indiana | 46060- | 236,603
Sioux City Housing Authority | P.O. Box 447 | Sioux City | Indiana | 51102- | 125,477
Waterloo Housing Authority | 620 Mulberry Street | Waterloo | Indiana | 50703- | 110,323
Wichita Housing Authority | 455 North Main Street | Wichita | Kansas | 67202-1606 | 287,738
Greenup County Housing Authority | 1214 Riverside Blvd | Wurtland | Kentucky | 41144- | 211,492
Lafayette Housing Authority | 100 C.O. Circle | Lafayette | Louisiana | 70501- | 194,659
Town of Oberlin | P.O. Box 370 | Oberlin | Louisiana | 70655- | 203,220
Maine State Housing Authority | 353 Water Street | Augusta | Maine | 04330-5633 | 199,109
Housing Authority of Baltimore City | 417 E. Lafayette Street | Baltimore | Maryland | 21202- | 338,467
Beverly MA Housing Authority | 137 Bridge Street | Beverly | Massachusetts | 01915- | 431,702
Clemsford MA Housing Authority | 10 Wilson Street | Chelmsford | Massachusetts | 01824- | 337,366
Dedham MA Housing Authority | 163 Dedham Boulevard | Dedham | Massachusetts | 02026- | 425,318
Franklin County Regional Housing Authority | P.O. Box 30 | Turner Falls | Massachusetts | 01376- | 103,421
Methuen MA Housing Authority | 24 Mystic Street | Methuen | Massachusetts | 01844- | 344,275
Sandwich MA Housing Authority | 20 Tom's Way | Sandwich | Massachusetts | 02563- | 113,818
Springfield MA Housing Authority | 25 Saab Ct | Springfield | Massachusetts | 01101- | 257,482
Yarmouth MA Housing Authority | Long Pond Plaza | South Yarmouth | Massachusetts | 02644- | 326,830
Montcalm County Housing Commission | P.O. Box 249 | Howard City | Michigan | 49329- | 115,570
MS Regional Housing Authority No. V | P.O. Box 419 | Newton | Mississippi | 39345- | 166,046
MS Regional Housing Authority No. VI | P.O. Drawer 8746 | Jackson | Mississippi | 39284-8746 | 258,350
Nevada Rural | 2100 California Street | Carson City | Nevada | 88970-1 | 380,085
Atlantic City Housing Authority | P.O. Box 1258 | Atlantic City | New Jersey | 08404- | 311,458
Bergen County Housing Authority | 21 Main Street | Hackensack | New Jersey | 07601 | 467,786
Carteret Housing Authority | 96 Roosevelt Avenue | Carteret | New Jersey | 07008- | 333,044
Housing Authority of the Borough of Somerville | 25 West End Avenue | Somerville | New Jersey | 08876- | 62,462
Monmouth County Housing Authority | P.O. Box 3000 | Freehold | New Jersey | 07728- | 520,750
Newark Housing Authority | 57 Sussex Avenue | Newark | New Jersey | 07103- | 375,667
NJDCA | P.O. Box 051 | Trenton | New Jersey | 08625- | 377,135
Paterson Dept. of Community Development | 125 Ellison Street | Paterson | New Jersey | 07505- | 392,618
City of Oswego Community Development Office | 20 West Oneida St., 3rd Floor | Oswego | New York | 13126- | 89,366
Johnstown Housing Authority | 33-41 East Main Street | Johnstown | New York | 12095- | 80,638
New York City Housing Authority | 250 Broadway | New York | New York | 10007- | 501,038
Town of Amherst (Erie Co PHA Consort) | 1195 Main Street | Buffalo | New York | 14209- | 217,130
Town of Colonie | Memorial Town Hall | Newtonville | New York | 12128- | 71,008
Charlotte Housing Authority | P.O. Box 36795 | Charlotte | North Carolina | 28263- | 299,981
Winston-Salem Housing Authority | 901 Cleveland Avenue | Winston-Salem | North Carolina | 27101- | 262,397
Minot Housing Authority | 310 Second Street, SE | Minot | North Dakota | 58701- | 174,394
Clermont Housing Authority | 65 South Market Street | Batavia | Ohio | 45103- | 288,679
Highland Housing Authority | 121 E. East Street House | Washington Court | Ohio | 43160- | 149,407
Lorain Housing Authority | 1600 Kansas | Lorain | Ohio | 44052-3317 | 247,464
Middletown Housing Authority | 128 City Centre Mall | Middletown | Ohio | 45042 | 304,307
Delaware County, PA Housing Authority | P.O. Box 100 | Woodlyn | Pennsylvania | 19094-0100 | 320,983
Monroe County Housing Authority | 1055 West Main Street | Strousburg | Pennsylvania | 18360-1427 | 99,473
East Providence RI Housing Authority | 99 Goldsmith Avenue | East Providence | Rhode Island | 02914-224 | 117,158
Johnston Housing Authority | 8 Forand Circle | Johnston | Rhode Island | 02919- | 229,354
Pennington County Housing Authority | 1805 West Fulton Street | Rapid City | South Dakota | 57702-4358 | 227,234
Corsicana Housing Authority | P.O. Box 1090 | Corsicana | Texas | 75151- | 236,810
Deep East Texas COG | 174 East Lamar Street | Jasper | Texas | 75951- | 217,678
Houston Housing Authority | P.O. Box 2971 | Houston | Texas | 77252- | 410,405
David County Housing Authority | P.O. Box 328 | Farmington | Utah | 84025- | 316,236
Provo City Housing Authority | 650 West 100 North | Provo | Utah | 84601- | 144,029
Vermont State Housing Authority | One Prospect Street | Montpelier | Vermont | 05602- | 215,062
Waynesboro Redevelopment and Housing Authority | P.O. Box 1138 | Waynesboro | Virginia | 22980- | 22,667
City of Anacortes | 719 Q Avenue | Anacortes | Washington | 98221- | 86,813

Fiscal Year 1999 Funding Awards for Mainstream Housing Opportunities for Persons With Disabilities—5 Year
Applicant name | Address | City | State | Zip | Amount
Housing Authority of Walker County, AL | P.O. Box 607 | Dora | Alabama | 35062- | $791,012
Los Angeles City Housing Authority | 2600 Wilshire Blvd | Los Angeles City | California | 90057- | 1,91,692
Conn. Dept. of Social Services | 25 Sigourney Street | Hartford | Connecticut | 06106- | 2,235,952
Dover, DE Housing Authority | 76 Stevenson Drive | Dover | Delaware | 19901- | 644,964
Boley Centers for Behavorial Health Care, Inc. | 1236 Dr. M.L. King St., North | St. Petersburg | Florida | 33705- | 1,724,780
Miami-Dade Housing Agency | 1401 NW 7th Street | Miami | Florida | 3312- | 2,620,976
Springfield Housing Authority | 200 North 11th Street | Springfield | Illinois | 60661- | 1,736,924
Community Support Programs, Inc | 610 Marshall St., Suite 405 | Shreveport | Louisiana | 71101-365 | 770,112
Augusta ME Housing Authority | 16 Cony Street | Augusta | Maine | 04330- | 899,240
Brunswick ME Housing Authority | 12 Stone Street | Brunswick | Maine | 04011- | 227,752
The ARC of Northern Chesapeake Region | P.O. Box 610 | Aberdeen | Maryland | 21001- | 2,495,496
MD Dept. of Housing and Community Development | 100 Community Place, Room 4222 | Crownsville | Maryland | 21032- | 1,156,936
The Bridge of Central Massachusetts, Inc | 10 Southwest Cutoff | Northborough | Massachusetts | 01532- | 722,052
Dept. of Hsg and Community Development (DHCD) | 1 Congress Street | Boston | Massachusetts | 02114- | 2,513,584
Plymouth HRA | 3400 Plymouth Boulevard | Plymouth | Minnesota | 55447-148 | 311,956
Community Housing Network | 821 East Admiral | Kansas City | Missouri | 64106- | 1,648,044
Barrier Free Futures, Inc | P.O. Box 4495 | Santa Fe | New Mexico | 87502- | 438,461
Gloversville Housing Authority | 181 West Street | Gloversville | New York | 12078- | 413,032
Albany Housing Authority | 4 Lincoln Square | Albany | New York | 12202- | 1,529,348
Southern Tier Environment for Living (STEL) | 515 Washington Street | Jamestown | New York | 14701- | 419,668
Rochester Housing Authority | 140 West Avenue | Rochester | New York | 14611- | 1,483,008
Mercy Haven | 859 Connetquot Avenue | Islip Terrace | New York | 11752- | 3,427,000
Columbus Housing Authority | 960 E. Fifth Avenue | Columbus | Ohio | 43201-309 | 1,211,180
PVA Circle of Homes | 17608 Euclid Avenue | Cleveland | Ohio | 44112-121 | 1,307,276
Fayette Metropolitan Authority | 121 E. East Street | Washington Court | Ohio | 43160- | 1,046,536
Coos-Curry Housing Authority | 1700 Monroe Street | North Bend | Oregon | 97459- | 367,968
Housing Authority of Douglas County | 902 West Stanton Street | Roseburg | Oregon | 97940- | 142,228
Josephine Hsg. and Community Development Council | P.O. Box 1940 | Grants Pass | Oregon | 97204- | 1,405,132
Resource for Human Development, Inc | 4333 Kelly Drive | Philadelphia | Pennsylvania | 19129- | 637,816
Kent County Mental Health Center, Inc. 301 S | 300 Centerville Road, Suite | Warwick | Rhode Island | 02888- | 1,745,008
Gateway Healthcare, Inc | 1516 Atwood Avenue | Johnston | Rhode Island | 02919- | 1,668,340
Crossville Housing Authority | P.O. Box 425 | Crossville | Tennessee | 38557- | 110,368
Dallas Housing Authority | 3939 North Hampton | Dallas | Texas | 75212- | 2,029,280
Beaver County Housing Authority | P.O. Box 1670 | Beaver | Utah | 84713- | 229,644
Piedmont Housing Alliance | 515 Park Street | Charlottesville | Virginia | 22902- | 1,632,908
Bellingham Watcom County | P.O. Box 9701 | Bellingham | Washington | 98227-970 | 1,599,000
Thurston County | 503 West 4th Avenue | Olympia | Washington | 98501- | 1,573,776
Waukesha County | 120 Corrina Blvd | Waukesha | Wisconsin | 53186- | 1,378,932

Fiscal Year 1999 Funding Awards for Family Self-Sufficiency
Applicant name | Address | City | State | ZIP | Amount
Jefferson County PHA | 3700 Industrial Parkway | Birmingham | Alabama | 35217- | $31,433
Huntsville PHA | P.O. Box 486 | Huntsville | Alabama | 35804- | 28,718
Leeds PHA | P.O. Box 513 | Leeds | Alabama | 35094- | 26,829
Florence PHA | 303 North Pine Street | Florence | Alabama | 35630- | 39,537
Bessemer PHA | P.O. Box 1390 | Bessemer | Alabama | 35020- | 32,344
Ozark PHA | P.O. Box 566 | Ozark | Alabama | 36361- | 33,328
Walker County PHA | P.O. Box 607 | Dora | Alabama | 35062- | 32,348
Uniontown PHA | P.O. Box 633 | Uniontown | Alabama | 36786- | 23,943
Birmingham PHA | P.O. Box 55906 | Birmingham | Alabama | 35233- | 46,350
Mobile PHA | P.O. Box 1345 | Mobile | Alabama | 36633- | 35,655
Montgomery Housing Authority | 1020 Bell Street | Montgomery | Alabama | 36104- | 33,372
Tallassee PHA | 904 Hickory Street | Tallassee | Alabama | 36078- | 17,913
Jacksonville PHA | 895 Gardner Drive | Jacksonville | Alabama | 36265- | 28,957
Decatur PHA | P.O. Box 878 | Decatur | Alabama | 35601- | 29,994
Tuscaloosa PHA | P.O. Box 2281 | Tuscaloosa | Alabama | 35403- | 40,451
Prichard PHA | P.O. Box 10307 | Prichard | Alabama | 36610- | 36,364
Alaska Housing Finance Corp (AHFC) | P.O. Box 101020 | Anchorage | Alaska | 99510-1020 | 46,350
Mesa Housing Authority | 415 N. Pasadena Street | Mesa | Arizona | 96201- | 44,640
Yuma City Housing Authority | 1350 W. Colorado Street | Yuma | Arizona | 85364- | 39,330
Mohave County Housing Authority | 809 E. Beale Street | Kingman | Arizona | 86402- | 31,883
Tucson Housing Authority | 1501 N. Oracle Road | Tucson | Arizona | 85726- | 46,350
Scottsdale Housing Authority | 7522 E. First Street | Scottsdale | Arizona | 85251- | 46,350
Maricopa Housing Authority | 2024 N. 7th Street | Phoenix | Arizona | 85006- | 46,350
Chandler Housing Authority | P.O. Box 4008 | Chandler | Arizona | 85244- | 39,281
Phoenix Housing Authority | 251 W. Washington St., 4th Floor | Phoenix | Arizona | 85003- | 46,145
Siloam Springs Housing Authority | P.O. Box 280 | Siloam Springs | Arkansas | 72761- | 30,563
Conway Housing Authority | 355 South Michell | Conway | Arkansas | 72032- | 25,569
West Memphis Housing Authority | 2820 Harrison St | West Memphis | Arkansas | 72301- | 29,047
Mississippi co. PFB | 808 W. Keiser | Osceola | Arkansas | 72370- | 31,143
Pulaski Co. Housing Authority | 201 s. Broadway Suite 430 | Little Rock | Arkansas | 72201- | 25,604
Ft. Smith Housing Authority | 2100 No. 31st Street | Fort Smith | Arkansas | 72904- | 29,328
UHDC—Pope Co | P.O. box 846 | Russellville | Arkansas | 72811- | 31,897
Northwest Regional Housing Authority | P.O. Box 2568 | Harrison | Arkansas | 72602- | 35,513
St. Francis Co. Housing Authority | P.O. Box 310 | Forrest City | Arkansas | 72335- | 22,229
Jonesboro URHA | 330 Union Street | Jonesboro | Arkansas | 72401- | 25,146
No. Little Rock Housing Authority | P.O. Box 516 | North Little Rock | Arkansas | 72115- | 34,694
Harrison Housing Authority | P.O. Box 1715 | Harrison | Arkansas | 72601- | 41,434
Lee Co. Housing Authority | 100 West Main St | Marianne | Arkansas | 72360- | 20,744
Pine Bluff Housing Authority | P.O. Box 8872 | Pine Bluff | Arkansas | 71611- | 23,643
Hope Housing Authority | 720 Texas St | Hope | Arkansas | 71801- | 24,238
Little Rock Housing Authority | 1000 Wolk Street | Little Rock | Arkansas | 72202- | 30,000
White River Regional Housing Authority | P.O. Box 650 | Melbourne | Arkansas | 72556- | 46,303
Wynne Housing Authority | PO Box 522 | Wynne | Arkansas | 72396- | 22,290
Glendale Housing Authority | 141 North Glendale Avenue | Glendale | California | 91206- | 46,350
Orange County Housing Authority | 1770 N Broadway | Santa Ana | California | 92706- | 46,350
San Buenaventura Housing Authority | PO Box 1648 | Ventura | California | 93002- | 46,350
San Jose Housing Authority | 505 West Julian Street | San Jose | California | 95110- | 46,348
Shasta Housing Authority | 1670 Market St., Suite 300 | Redding | California | 96001- | 38,611
Sonoma Housing Authority | 1440 Guerneville Road | Santa Rosa | California | 95403- | 46,350
Lakewood Housing Authority | 5050 N. Clark Ave | Lakewood | California | 90712- | 46,350
Santa Clara Housing Authority | 505 West Julian Street | San Jose | California | 95110- | 46,348
Compton Housing Authority | 600 North Alameda Suite 163 | Compton | California | 90221- | 42,600
Sacramento City Redevelopment | Sacramento Hsg & Redevelopment | Sacramento | California | 95812- | 30,728
Oxnard Housing Authority | 1470 Colonia Road | Oxnard | California | 93030- | 46,350
Redding Housing Authority | 760 Parkview Avenue | Redding | California | 96001- | 46,350
Alameda City Housing Authority | 701 Atlantic Avenue | Alameda | California | 94501- | 23,175
HCD, State of California | P.O. Box 952050 | Sacramento | California | 94252- | 45,312
Oakland Housing Authority | 1619 Harrison Street | Oakland | California | 94612- | 46,350
Solano Housing Authority | 601 West Texas Street | Fairfield | California | 94533- | 45,173
Los Angeles City Housing Authority | P.O. Box 17157 | Los Angeles | California | 90057- | 46,350
Butte Housing Authority | 580 Vallobrosa Avenue | Chicago | California | 95926- | 38,836
Riverside County Housing Authority | 5555 Arlington Avenue | Riverside | California | 92504- | 46,350
Kern County Housing Authority | 525 Roberts Lane | Bakersfield | California | 93308- | 46,350
Garden Grove Housing Authority | 1400 Stanford Avenue | Garden Grove | California | 94842- | 46,350
Santa Barbara City Housing Authority | 808 Laguana St | Santa Barbara | California | 93101- | 46,350
San Diego Housing Community | 1625 Newton Avenue | San Diego | California | 92113- | 46,350
Alameda County Housing Authority | 22941 Atherton Street | Hayward | California | 94541- | 43,512
Long Beach Housing Authority | 333 West Ocean Blvd 7th Fl | Long Beach | California | 90802- | 46,350
Fairfield Housing Authority | 100 Webster | Fairfield | California | 94533- | 46,350
Culver City Housing Authority | P.O. Box 507 | Culver City | California | 90232- | 33,100
Napa Housing Authority | P.O. Box 660 | Napa | California | 94559- | 46,350
Los Angeles County Housing Authority | C.D.C. County of Los Angeles | Monterey Park | California | 91755- | 46,350
Oceanside Housing Authority | 300 North Coast Highway | Oceanside | California | 92054- | 46,350
Marin Housing Authority | P.O. Box 4282 | San Rafael | California | 94913- | 46,350
Santa Paula Housing Authority | P.O. Box 404 | Santa Paula | California | 93060- | 46,350
Kings Co. Housing Authority | P.O. Box 355 | Hanford | California | 93232- | 41,705
Carlsbad Housing Authority | 2965 Roosevelt St. B | Carlsbad | California | 92008- | 46,350
Ventura County Housing Authority | 99 South Glenn Drive | Camarillo | California | 93010- | 46,350
Contra Costa Housing Authority | 3133 Estudillo Street | Martinez | California | 94553- | 46,350
Imperial Valley Housing Authority | 1401 D Street | Brawley | California | 92227- | 46,350
Berkeley Housing Authority | 1901 Farview Street | Berkeley | California | 94703- | 46,350
Mardera Housing Authority | 205 G Street | Madera | California | 93637- | 44,870
Yuba Housing Authority | 938 14th Street | Marysville | California | 95901- | 43,819
Upland Housing Authority | 1226 N Campus Avenue | Upland | California | 91786- | 32,481
Merced Housing Authority | 405 U Street | Merced | California | 95340- | 44,480
Roseville Housing Authority | 405 No. Coast Highway | Roseville | California | 95678- | 44,460
Vacaville Housing Authority | 40 Eldridge Avenue | Vacaville | California | 95688- | 46,350
San Luis Obispo | P.O. Box 638 | San Luis Obispo | California | 93406- | 46,350
Fresno County Housing Authority | PO Box 11985 | Fresno | California | 93776- | 44,500
Monterey Housing Authority | 123 Rico Street | Salinas | California | 93907- | 46,350
San Francisco Housing Authority | 440 Turk Street | San Francisco | California | 94102- | 46,350
San Bernardino Housing Authority | 1053 North D Street | San Bernardino | California | 92410 | 46,350
El Dorado Housing Authority | 360 Fair Lane | Placerville | California | 95667- | 46,350
Anaheim Housing Authority | 201 So. Anaheim Blvd | Anaheim | California | 92805- | 46,350
Norwalk Housing Authority | 12035 Firestone Blvd | Norwalk | California | 90650- | 46,350
Benicia Housing Authority | 28 Riverhill Drive | Benicia | California | 94510- | 46,350
Denver Housing Authority | Box 40305-Mile Hi Stn | Denver | Colorado | 80204- | 38,868
Colorado Div of Housing | 1313 Sherman St., Rm 518 | Denver | Colorado | 80203- | 46,350
Pueblo Housing Authority Avenue | 1414 North Santa Fe | Pueblo | Colorado | 81003- | 30,900
Arvada Housing Authority | 8001 Ralston Road | Arvada | Colorado | 80002- | 35,404
Montrose City Housing Authority | 222 Hap Court | Olathe | Colorado | 81425- | 31,482
Aurora Housing Authority | 10745 E. Kentucky Ave | Aurora | Colorado | 80012- | 35,597
Lakewood Housing Authority | 445 So. Allison Pkwy | Lakewood | Colorado | 80002- | 35,404
Colorado Department Human Services | 4131 S. Julian Way | Denver | Colorado | 80236- | 45,577
Fort Collins Housing Authority | 1715 W. Mountain Ave | Fort Collins | Colorado | 80521- | 35,650
Grand Junction Housing Authority | 805 Main St | Grand Junction | Colorado | 81501- | 28,478
Jefferson City Housing Authority | 6025 W. 38th Avenue | Wheatridge | Colorado | 80033- | 35,404
Englewood Housing Authority | 3560 S. Sherman St | Englewood | Colorado | 80110- | 41,057
Adams County Housing Authority | 7190 Colorado Blvd | Commerce City | Colorado | 80022- | 41,324
Boulder City Housing Authority | PO Box 471 | Boulder | Colorado | 80306- | 40,728
Garfield City Housing Authority | 2128 Railroad Avenue | Rifle | Colorado | 81425- | 41,291
Ansonia Housing Authority | 36 Main Street | Ansonia | Connecticut | 06401 | 44,785
Torrington Housing Authority | 110 Prospect Street | Torrington | Connecticut | 06106- | 31,613
Milford Housing Authority | 75 DeMaio Drive | Milford | Connecticut | 06460- | 36,000
Meriden Housing Authority | 22 Church Street | Meriden | Connecticut | 06457- | 46,332
Middletown Housing Authority | 40 Broad Street | Middleton | Connecticut | 06457- | 30,400
Delaware State Housing Authority | 820 Silver Lake Blvd | Dover | Delaware | 19904- | 41,200
Dover Housing Authority | 76 Stevenson Drive | Dover | Delaware | 19904- | 31,931
District of Columbia Housing Authority | 1133 North Capitol Street NE | Washington | District of Columbia | 20002- | 46,350
Orlando Housing Authority | 300 Reeves Court | Orlando | Florida | 32801- | 43,384
Boca Raton Housing Authority | 201 West Palmetto Park Road | Boca Raton | Florida | 33432- | 28,638
City of Lakeland Housing Authority | P O Box 1009 | Lakeland | Florida | 33802- | 46,337
Riviera Beach Housing Authority | 2014 West 17th Court | Riviera Beach | Florida | 33404- | 40,161
Tallahassee Housing Authority | 2940 Grady Road | Tallahassee | Florida | 32312- | 38,640
City of Sarasota Housing Authority | 1300 Sixth Street | Sarasota | Florida | 34236- | 29,446
Pompano Beach Housing Authority | P.O. Box 2006 | Pompano Beach | Florida | 33061- | 25,668
City Of Miami Beach Housing Authority | 200 Alton Road | Miami Beach | Florida | 33139- | 45,000
Walton County Housing Authority | P.O. Box 1258 | Defuniak Springs | Florida | 32432- | 37,035
Deland Housing Authority | 300 Sunflower Circle | Deland | Florida | 32724- | 42,404
Hernando County Housing Authority | 20 N. Main Street | Brooksville | Florida | 34601- | 37,209
City of Ft. Myers—CRA | 3326 Dr. Martin Luther King Jr. Blvd | Fort Meyers | Florida | 33902- | 46,350
Palm Beach County Housing Authority | 3432 W 45th Street | West Palm Beach | Florida | 33407- | 35,200
West Palm Beach Housing Authority | 3801 Georgia Avenue | West Palm Beach | Florida | 33405- | 32,370
City of Pensacola Housing Authority | 180 Governmental Center | Pensacola | Florida | 32521- | 32,217
Broward County Housing Authority | 1773 North State Road 7 | Lauderhill | Florida | 33313- | 38,900
Deerfield Beach Housing Authority | 425 N.W. 1st Terrace | Deerfield Beach | Florida | 33441- | 43,032
Brevard County Housing Authority | P.O. Box 338 | Merritt Island | Florida | 32952- | 38,742
Orange County Housing Authority | 525 E. South Street | Orlando | Florida | 32801- | 42,765
City of Ft. Lauderdale Housing Authority | 437 SW 4th Avenue | Ft. Lauderdale | Florida | 33315- | 45,396
Pasco City Housing Authority | 14517 7th Street | Dade City | Florida | 33525- | 38,136
Delray Beach Housing Authority | 770 SW 12th Terrace | Delray Beach | Florida | 33444- | 39,085
Hollywood Housing Authority | 7300 North Davie Road Extension | Hollywood | Flordia | 33024- | 14,183
Collier County Housing Authority | 1800 Farm Worker Way | Immokallee | Florida | 33934- | 38,702
Gainesville Housing Authority | P.O. Box 1468 | Gainesville | Florida | 32602- | 37,178
County of Volusia Housing Authority | 123 West Indiana Avenue | Deland | Florida | 32720- | 31,618
Clearwater Housing Authority | P.O. Box 960 | Clearwater | Florida | 34617- | 34,862
Panama City Housing Authority | 804 E 15th Street | Panama City | Florida | 32405- | 26,265
Daytona Beach Housing Authority | 118 Cedar Street | Daytona | Florida | 32114- | 35,780
DeKalb Co. Housing Authority | P.O. Box 1627 | Decatur | Georgia | 30031- | 45,007
Rome Housing Authority | P.O. Box 1428 | Rome | Georgia | 30161- | 31,000
Brunswick Housing Authority | P.O. Box 1118 | Brunswick | Georgia | 31521- | 30,142
Jonesboro Housing Authority | P.O. Box 458 | Jonesboro | Georgia | 30235- | 32,550
Georgia Department of Community Affairs | 60 Executive Pkwy South, NE | Atlanta | Georgia | 30326 | 37,356
Albany Housing Authority | P.O. Box 485 | Albany | Georgia | 31702- | 27,824
Macon Housing Authority | P.O. Box 4928 | Macon | Georgia | 31206- | 32,227
Atlanta Housing Authority | 739 West Peachtree Street NE | Atlanta | Georgia | 30365- | 34,765
City of Marietta Section 8 Dept. | 205 Lawrence Street | Marietta | Georgia | 30061- | 45,320
Guam Housing Authority | 117 Bien Venida Avenue | Sinajana | Guam | 96926- | 34,192
Kauai Housing Authority | 4193 Hardy Street | Lihue | Hawaii | 96776- | 46,343
State of Hawaii HCDC | 677 Queen Street | Honolulu | Hawaii | 96776- | 38,470
SW Idaho Coop. Housing Authority | 1108 West Finch Drive | Nanpa | Idaho | 83651- | 31,200
Idaho Housing | P.O. Box 7899 | Boise | Idaho | 83707- | 46,350
Ada County Housing Authority | 680 Cunningham Place | Boise | Idaho | 83702- | 41,362
Boise City Housing Authority | 680 Cunningham Place | Boise | Idaho | 83702- | 42,516
Madison County HA | 1609 Olive Street | Collinsville | Illinois | 62234- | 39,540
Kendall Housing Authority Center | 500-A, Countryside | Yorkville | Illinois | 60560- | 9,266
Chicago Housing Authority Boulevard | 626 West Jackson | Chicago | Illinois | 60661- | 46,250
Cook County Housing Authority | 310 South Michigan Ave | Chicago | Illinois | 60604- | 46,000
Bloomington Housing Authority | 104 East Wood Street | Bloomington | Illinois | 61701- | 39,793
Elgin Housing Authority | 120 South State Street | Elgin | Illinois | 60123- | 36,680
Rockford Housing Authority | 223 South Winnebago Street | Rockford | Illinois | 61102- | 45,052
Waukegan Housing Authority | 215 South Utica Street | Waukegan | Illinois | 60085- | 43,672
Franklin County Housing Authority | Post Office Box 68 | West F Frankfort | Illinois | 62896- | 28,083
Peoria Housing Authority | 100 South Sheridan Road | Peoria | Illinois | 61605- | 31,749
East St. Louis Housing Authority | 700 North 20th Street | East St. Louis | Illinois | 62205- | 36,848
Champaign County Housing Authority | 205 West Park Avenue | Champaign | Illinois | 60085- | 29,264
McHenry County Housing Authority | Post Office Box 1109 | Woodstock | Illinois | 60098- | 38,710
Terre Haute Housing Authority | One Dreiser Square | Terre Haute | Indiana | 47803- | 46,144
IN Family & Social Service (IDFSSA) | 402 West Washington Street | Indianapolis | Indiana | 46205- | 46,350
Elkart Housing Authority | 1396 Benham Avenue | Elkart | Indiana | 46516- | 33,475
Logansport Housing Authority | 417 North Street, Suite 102 | Logansport | Indiana | 46947- | 24,411
Peru Housing Authority | 701 East Main Street | Peru | Indiana | 46970- | 27,675
Knox County Housing Authority | 11 Powell Street | Bicknell | Indiana | 47512- | 19,500
Indianapolis Housing Authority | 5 Indiana Square | Indianapolis | Indiana | 46204- | 36,350
Vincennes Housing Authority | 501 Hart Street | Vincennes | Indiana | 47591- | 18,565
Muncie Housing Authority | 409 East First Street | Muncie | Indiana | 47302- | 23,989
Evansville Housing Authority | 500 Court Street | Evansville | Indiana | 47708- | 36,050
Bloomington Housing Authority | 1007 North Summit Street | Bloomington | Indiana | 47402- | 32,342
Columbus Housing Authority | 799 McClure Road | Columbus | Indiana | 47201- | 39,508
Fort Wayne Housing Authority | Post Office Box 13489 | Fort Wayne | Indiana | 46803- | 35,409
Delaware County Housing Authority | 2401 South Haddix Avenue | Muncie | Indiana | 47302- | 32,500
Mariion Housing Authority | 601 South Adams Street | Marion | Indiana | 46953- | 31,694
Goshen Housing Authority | 302 South Fifth Street | Goshen | Indiana | 46526- | 38,569
Waterloo Housing Authority | 620 Mulberry Street | Waterloo | Iowa | 50703- | 46,350
Central Iowa Regional Housing Authority | 1111 Ninth Street | Des Moines | Iowa | 50314- | 46,350
Fort Dodge Housing Authority | 700 South 17th Street | Fort Dodge | Iowa | 50501- | 46,350
Eastern Iowa Regional Housing Authority | P.O. Box 1140 | Dubque | Iowa | 52004- | 42,922
Iowa City Housing Authority | 401 E. Washington Street | Iowa | Iowa | 52240- | 43,596
Region XII Regional Housing Authority | 108 West 16th Street | Carroll | Iowa | 51401- | 46,146
Southern Iowa Regional Housing Authority | 219 N Pine | Creston | Iowa | 50801- | 32,797
North Iowa Regional | 217 2nd Street, SW | Mason City | Iowa | 50401- | 46,350
Iowa Northland Regional Housing Authority | 2530 University Avenue | Waterloo | Iowa | 50701- | 38,246
Sioux City Housing Authority | Box 447 | Sioux City | Iowa | 51102- | 46,350
Upper Explorerland Housing Authority | 134 W. Greene St. | Postville | Iowa | 52162- | 39,666
City of Dubuque Housing Authority | 1805 Central Avenue | Dubuque | Iowa | 52001- | 30,652
Northwest Iowa Regional Housing Authority | P.O. Box 446 | Spencer | Iowa | 51301- | 35,503
Ottumwa Housing Authority | 102 West Finley Avenue | Ottumwa | Iowa | 52501- | 34,836
Mid-Iowa Regional Housing Authority | 1814 Central Avenue | Fort Dodge | Iowa | 50501- | 32,600
Cedar Rapids Housing Authority | Cedar Rapids Housing Services | Cedar Rapids | Iowa | 52401- | 46,350
Lyon CO/ECKAN | P.O. Box 100 | Ottawa | Kansas | 66067- | 29,020
Brown CO/NEK-CAP | Route 4, Box 187 | Hiawatha | Kansas | 66434- | 31,534
Topeka Housing Authority | 2101 SE California | Topeka | Kansas | 66607- | 32,534
Ford Co. Housing Authority | 240 San Jose Drive | Dodge City | Kansas | 67801- | 30,159
Lawrence Housing Authority | 1600 Haskell Avenue | Lawrence | Kansas | 66044- | 30,205
Fort Scott Housing Authority | 315 Scott Avenue | Fort Scott | Kansas | 66701- | 12,238
Pike County Housing Authority | P.O. Box 1468 | Pikeville | Kentucky | 41501- | 45,061
Somerset Housing Authority | P.O. Box 449 | Somerset | Kentucky | 42502- | 32,454
Boone Co. Housing Authority | P.O. Box 536 | Burlington | Kentucky | 41005- | 34,057
Cynthiana Housing Authority | P.O. Box 351 | Cynthiana | Kentucky | 41031- | 43,464
Newport Housing Authority | P.O. Box 459 | Newport | Kentucky | 41072- | 28,737
Georgetown Housing Authority | 139 Scroggin Park | Georgetown | Kentucky | 40324- | 11,940
Paducah Housing Authority | P.O. Box 2267 | Paducah | Kentucky | 42002- | 32,611
Bowling Green CDA | P.O. Box 430 | Bowling Green | Kentucky | 42102- | 38,825
Greenup Co | 1214 Riverside Boulevard | Wurtland | Kentucky | 41144- | 43,706
Kentucky Housing Authority | 1231 Louisville Road | Frankfort | Kentucky | 40601- | 36,874
Floyd County Housing Authority | 36 Blaine Hall Street, Apt. 37 | Prestonburg | Kentucky | 41653- | 32,320
Pineville Housing Authority | P.O. Box 460 | Pineville | Kentucky | 40977- | 14,832
Lexington Housing Authority | 300 West New Circle Road | Lexington | Kentucky | 40203- | 41,135
Jefferson Co. Housing Authority | 801 Vine Street | Louisville | Kentucky | 40324- | 39,666
Louisville Housing Authority | 420 S. 8th Street | Louisville | Kentucky | 40203- | 46,344
Henderson Housing Authority | 111 South Adams Street | Henderson | Kentucky | 42420- | 30,797
Cumberland Valley Housing Authority | P.O. Box 806 | Barbourville | Kentucky | 40906- | 46,350
Lafayette Housing Authority | 100 C O Circle | Lafayette | Louisiana | 70501- | 30,480
Jefferson Parish Housing Authority | 1718 Betty Street | Marrero | Louisiana | 70072- | 46,020
Webster Parish Housing Authority | P.O. Box 389 | Minden | Louisiana | 71055- | 22,423
Lincoln Parish Housing Authority | 109 E. Mississippi | Ruston | Louisiana | 71270- | 14,528
Lafourche Parish Housing Authority | P.O. Drawer 5548 | Thibodaux | Louisiana | 70302- | 30,000
Bienville Parish Housing Authority | 109 E. Mississippi | Ruston | Louisiana | 71270- | 14,528
Lake Charles Housing Authority | P.O. Box 1206 | Lake Charles | Louisiana | 70602- | 14,397
Winn Parish Housing Authority | P.O. Box 951 | Winnfield | Louisiana | 71483- | 21,730
DeSoto Parish | 533 Jordan St. | Shreveport | Louisiana | 71101- | 14,528
Washington Parish Housing Authority | 26074 Hwy. 21, Box 12 | Angie | Louisiana | 70426- | 17,706
Maine State Housing Authority | 353 Water Street | Augusta | Maine | 04330- | 46,350
Old Town, ME Housing Authority | 165 South Main Street | Old Town | Maine | 04468- | 36,855
Portland Housing Authority | 14 Baxter Boulevard | Portland | Maine | 04101- | 46,350
Caribou, ME Housing Authority | 25 High Street | Caribou | Maine | 04736- | 36,139
Bangor, ME Housing Authority | 161 Davis Road | Bangor | Maine | 04101- | 35,996
Westbrook, ME Housing Authority | 30 Liza Harmon Drive | Westbrook | Maine | 04092- | 46,350
Augusta, ME Housing Authority | 16 Convy Street | Augusta | Maine | 04330- | 24,509
Calvert County Housing Authority | P.O. Box 2509 | Prince Frederick | Maryland | 20678- | 37,277
Carrol County Bureau of Housing Community Dev | 10 Distillary Drive | Westminister | Maryland | 21157- | 33,326
City of Westminister Public Housing Agency | 56 West Main Street | Westminister | Maryland | 21157- | 34,908
State of Maryland Housing | 100 Community Place | Crownsville | Maryland | 21032- | 25,000
Housing Authority of the City of Frederick | 209 Madison Street | Frederick | Maryland | 21701- | 40,295
HA of the City of Hagerstown | 35 W. Baltimore Street | Hagerstown | Maryland | 21701- | 46,350
Housing Opportunities Community | 10400 Detrick Avenue | Kensington | Maryland | 20895- | 46,350
Hartford County Housing Agency | 15 South Main Street | Bel Air | Maryland | 21014- | 42,741
HA of the City of Havre de Grace | 101 Stansbury Court | Havre De Grace | Maryland | 21708- | 27,126
St. Mary's County Housing Authority | PO Box 653 | Leonardtown | Maryland | 20650- | 46,350
Cecil County Housing Agency | 129 East Main Street | Elkton | Maryland | 21921- | 42,662
Prince George's County Housing Authority | 9400 Peppercorn Place, Suite 200 | Largo | Maryland | 20774- | 46,350
Rockville Housing Authority | 14 Moore Drive | Rockville | Maryland | 20850- | 46,350
MA Dept. of Housing Community Development | One Congress Street | Boston | Massachusetts | 02114- | 46,350
Greenfield Housing Authority | One Elm Terrace | Greenfield | Massachusetts | 01301- | 40,500
Brookline MA Housing Authority | 90 Longwood Avenue | Brookline | Massachusetts | 00216- | 42,222
Saugus, MA Housing Authority | 19 Talbot Street | Saugus | Massachusetts | 01906- | 34,598
Woburn, MA Housing Authority | 59 Campbell Street | Woburn | Massachusetts | 01801- | 46,350
Everett, MA Housing Authority | 90 Chelsea Street | Everett | Massachusetts | 02149- | 46,350
Leominister, MA Housing Authority | 100 Main Street | Leominster | Massachusetts | 01453- | 41,638
Andover, MA Housing Authority | 100 Morton Street | Andover | Massachusetts | 01810- | 46,350
North Andover, MA Housing Authority | One Morkeski Meadows | North Andover | Massachusetts | 01845- | 25,441
Lowell, MA Housing Authority | 350 Moody Street | Lowell | Massachusetts | 01853- | 46,350
Shrewsbury, MA Housing Authority | 36 North Quinsigamond Avenue | Shrewsbury | Massachusetts | 01545- | 24,772
Milford, MA Housing Authority | 45 Birmingham Court | Milford | Massachusetts | 01757- | 13,637
Gardner, MA Housing Authority | 116 Church Street | Gardner | Massachusetts | 01440- | 42,890
Gloucester, MA Housing Authority | 99 Prospect Street | Gloucester | Massachusetts | 01913- | 35,266
North Attleborough, MA Housing Authority | 20 South Washington Street | North Attleborough | Massachusetts | 02760- | 29,926
Attleborough, MA Housing Authority | 37 Carlon Street | Attleborough | Massachusetts | 02703- | 25,116
Norwood, MA Housing Authority | 40 William Shyne Circle | Norwood | Massachusetts | 02062- | 40,757
Holbrook, MA Housing Authority | One Holbrook Court | Holbrook | Massachusetts | 02343- | 29,362
Dedham, MA Housing Authority | 163 Dedham Boulevard | Dedham | Massachusetts | 02026- | 41,960
Amherst, MA Housing Authority | 33 Kellogg Avenue | Amherst | Massachusetts | 01002- | 25,126
Dennis, MA Housing Authority | 167 Center Street | South Dennis | Massachusetts | 02660- | 34,306
Avon, MA Housing Authority | 1 Fellowship Circle | Avon | Massachusetts | 02322- | 25,441
Mansfield, MA Housing Authority | 22 Bicentennial Court | Mansfield | Massachusetts | 02048- | 24,846
Reading, MA Housing Authority | 22 Frank D. Tanner Drive | Reading | Massachusetts | 01867- | 27,291
Brockton, MA Housing Authority | 45 Goddard Road | Brockton | Massachusetts | 02403- | 45,114
Arlington, MA Housing Authority | 4 Winslow Street | Arlington | Massachusetts | 02174- | 28,954
Medford, MA Housing Authority | 121 Riverside Avenue | Medord | Massachusetts | 02155- | 39,130
Peabody, MA Housing Authority | 75 North Central Street #2 | Peabody | Massachusetts | 01960- | 35,762
Plymouth, MA Housing Authority | 69 Allerton Street | Plymouth | Massachusetts | 01720- | 33,993
Framingham, MA Housing Authority | 1 John J. Brady Drive | Framingham | Massachusetts | 01701- | 46,350
Melrose, MA Housing Authority | 910 Main Street | Melrose | Massachusetts | 03276- | 27,069
Acton, MA Housing Authority | 68 Windsor Avenue | Acton | Massachusetts | 01720- | 32,241
Hanson, MA Housing Authority | Meetinghouse Lane | Hanson | Massachusetts | 02341- | 24,395
Methuen, MA Housing Authority | 24 Mystic Street | Methuen | Massachusetts | 01844- | 19,500
Quincy, MA Housing Authority | 80 Clay Street | Qunicy | Massachusetts | 02710- | 46,350
Lynn MA Housing Authority | 174 South Common Street | Lynn | Massachusetts | 01905- | 45,895
Braintree, MA Housing Authority | 25 Roosevelt Street | Braintree | Massachusetts | 02184- | 13,926
Wakefield, MA Housing Authority | 26 Crescent Street | Wakefield | Massachusetts | 01880- | 24,888
Danvers, MS Housing Authority | 14 Stone Street | Danvers | Massachusetts | 01923- | 23,013
Holyoke, MA Housing Authority | 475 Maple Street | Holyoke | Massachusetts | 01040- | 42,000
Salem Housing Authority | 27 Charter Street | Salem | Massachusetts | 01970- | 45,076
Chelmsford, MA Housing Authority | 10 Wilson Street | Chelmsford | Massachusetts | 01824- | 24,804
Somerville, MS Housing Authority | 30 Memorial Road | Somerville | Massachusetts | 02145- | 43,260
Worcester, MA Housing Authority | 40 Belmont Street | Worcester | Massachusetts | 01605- | 36,834
Traverse City H.C | 10200 Carter Centre | Traverse | Michigan | 49684- | 28,392
Wayne CPD | 600 Randolph | Detroit | Michigan | 48226- | 33,300
Kent Co. H.C | 741 Beltline Avenue | Grand Rapids | Michigan | 49505- | 42,189
Dearborn Hts. Housing Authority | 26155 Richardson Street | Dearborn Heights | Michigan | 48127- | 31,320
Plymouth H.C | 1160 Sheridan | Plymouth | Michigan | 48107- | 41,894
Detroit H.C | 1301 East Jefferson Avenue | Detroit | Michigan | 48207- | 46,350
Saginaw H.C | 2811 Davenport | Saginaw | Michigan | 48602- | 25,500
Grand Rapids, H.C | 1420 Fuller Avenue SE | Grand Rapids | Michigan | 49507- | 46,350
Jackson H.C | 301 Steward Avenue | Jackson | Michigan | 49201- | 24,274
Westland H.C | 32175 Dorsey Road | Westland | Michigan | 48185- | 30,596
NW Minnesota Multi-Co. HRA | P.O. Box 128 | Mentor | Minnesota | 56736- | 32,782
St. Louis Park Housing Authority | 5005 Minnetonka Blvd. | St. Louis Park | Minnesota | 55416- | 21,444
Washington County HRA | 321 Broadway Avenue | St. Paul Park | Minnesota | 55071- | 24,044
South St. Paul HRA | 125 South Third Avenue | South St. Paul | Minnesota | 55075- | 42,800
Brainerd HRA | 410 East River Road | Brainerd | Minnesota | 56401- | 41,752
South Eastern Minnesota Mult | 134 East Second Street | Wabasha | Minnesota | 55981- | 45,411
Scott County HRA | 323 South Naumkeag Street | Shakopoee | Minnesota | 55379- | 15,943
Dakota County Housing Authority | 2496 145th Street West | Rosemount | Minnesota | 55068- | 40,998
Metropolitan Council HRA | 230 East 5th Street | St. Paul | Minnesota | 55105- | 46,350
Plymouth HRA | 3400 Plymouth Boulevard | Plymouth | Minnesota | 55441- | 14,557
Winona HRA | 1756 Kraemer Drive | Winona | Minnesota | 55987- | 12,180
Duluth HRA | 222 East 2nd Street | Duluth | Minnesota | 55816- | 46,350
South Central Minnesota Multi-Co. | 410 Jackson Street, Suite 1000 | Mankato | Minnesota | 56001- | 31,027
MS Regional HA No. IV | P.O. Box 1051 | Columbus | Mississippi | 39703- | 26,800
TN Valley Regional Housing Authority | P.O. Box 1329 | Corinth | Mississippi | 38834- | 24,182
North Delta Regional Housing Authority | P.O. Box 1153 | Clarksdale | Mississippi | 38614- | 29,250
MS Regional HA No. VII | P.O. Box 886 | McComb | Mississippi | 39648- | 24,649
MS Regional HA No. V | P.O. Box 419 | Newton | Mississippi | 39345- | 28,083
MS Regional HA No. VIII | P.O. Box 2347 | Gulfport | Mississippi | 39503- | 38,162
St. Clair Housing Authority | 106 W. 4th Street | Appleton | Missouri | 64724- | 29,367
HA of the City of St. Charles | 1041 Olive Street | St. Charles | Missouri | 63301- | 30,789
St. Francois County PHA | 403 Glendale Street | Park Hills | Missouri | 63601- | 25,113
Ripley County PHA | 3019 Fair St | Poplar Bluff | Missouri | 63901- | 25,913
HA of the City of St. Louis | 4100 Lindell Blvd | St. Louis | Missouri | 63108- | 40,150
Liberty Housing Authority | P.O. Box 159 | Liberty | Missouri | 64068- | 33,089
Franklin County PHA | 4640 Yaeger Road | Hillsboro | Missouri | 63050- | 30,051
St. Louis County Housing Authority | 8865 Natural Bridge | St. Louis | Missouri | 63121- | 30,080
Springfield Housing Authority | 421 W. Madison St | Springfield | Missouri | 65806- | 24,293
Lincoln County PHA | 16 North Court | Bowling Green | Missouri | 63334- | 25,539
Kansas City Housing Authority | 712 Broadway | Kansas City | Missouri | 64105- | 36,232
Phelps County PHA | #4 Industrial Drive | St. James | Missouri | 65559- | 23,558
Billings Housing Authority | 2415 First Ave. N | Billings | Montana | 59101- | 38,649
Missoula Housing Authority | 1319 E. Broadway | Missoula | Montana | 59802- | 30,622
Helena Housing Authority | 812 Abbey St | Helena | Montana | 59601- | 45,998
Kearney Housing Authority | 2715 Avenue I | Kearney | Nebraska | 68847- | 28,971
Bellevue Housing Authority | 8214 Armstrong Circle | Omaha | Nebraska | 68147- | 27,335
Douglas County Housing Authority | 5404 North 107th Plaza | Omaha | Nebraska | 68134- | 32,540
Central Nebraska Joint Housing | P.O. Box 509 | Loup City | Nebraska | 68853- | 25,421
Blair Housing Authority | 758 South 16th Street | Blair | Nebraska | 68008- | 15,289
Goldenrod Joint Housing Authority | P.O. Box 280 | Windsor | Nebraska | 68791- | 28,326
Norfolk Housing Authority | 111 S. First Street | Norfolk | Nebraska | 68701- | 32,782
North Las Vegas Housing Authority | 1632 Yale Street | North Las Vegas | Nevada | 89030- | 46,350
Clark Co. Housing Authority | 5390 E. Flamingo Road | Las Vegas | Nevada | 89122-5338 | 45,995
Las Vegas Housing Authority | P.O. Box 1897 | Las Vegas | Nevada | 89125-1897 | 46,350
Keene, NH Housing Authority | 105 Castle Street | Keene | New Hampshire | 03431- | 36,355
Manchester Housing Redevelopment Authority | 198 Hanover Street | Manchester | New Hampshire | 03104- | 46,138
Dover, NH Housing Authority | 62 Whittier Street | Dover | New Hampshire | 03820- | 12,497
Nashua, NH Housing Authority | 101 Major Drive | Nashua | New Hampshire | 03060- | 34,544
Perth Amboy | 881 Amboy Ave, P.O. Box 390 | Perth Amboy | New Jersey | 08862- | 46,350
Vineland Housing Authority | 191 Chestnut Avenue | Vineland | New Jersey | 08360-5499 | 42,230
Lakewood Housing Authority | 317 Sampson Avenue | Lakewood | New Jersey | 08701-3565 | 46,350
NJDCA (Monmouth co.) | 101 S. Broad Street CN800 | Trenton | New Jersey | 08625-0800 | 45,394
Dover Housing Authority | 215 East Blackwell Street | Dover | New Jersey | 07801-4142 | 45,404
Plainfield Housing Authority | 510 East Front Street | Plainfield | New Jersey | 07060- | 42,967
Passaic Co Housing Authority | 317 Pennsylvania Avenue | Paterson | New Jersey | 07503- | 36,553
Lakewood RAP | 231 Third Street | Lakewood | New Jersey | 08701- | 46,350
Burlington Co. Housing Authority | 795 Woodlane Road | Mt. Holly | New Jersey | 00860-6000 | 30,844
W. East Orange Housing Authority | 160 Halsted Street | East Orange | New Jersey | 07018-4228 | 46,350
Monmouth Co. Housing Authority | P.O. Box 3000 | Freehold | New Jersey | 07728- | 46,350
Asbury Park Housing Authority | 1000½ Third Avenue | Asbury Park | New Jersey | 08662- | 44,000
Paterson Housing Authority | 60 Van Housten Street PO Box H | Paterson | New Jersey | 07509- | 45,887
Boonton Housing Authority | 125 Chestnut Street | Boonton | New Jersey | 07005-3761 | 45,895
Montclair Housing Authority | 205 Claremont Avenue | Montclair | New Jersey | 07042- | 46,331
Woodbridge Housing Authority | 10 Bunns Lane | Woodbridge | New Jersey | 07095- | 42,846
Weehawken Housing Authority | 525 Gregory Avenue | Weehawken | New Jersey | 07098-5713 | 45,805
Millville Housing Authority | P.O. Box 803 122 E Main Street | Millville | New Jersey | 08332-0803 | 29,804
Warren Co. Housing Authority | 415B Front Street | Belvidere | New Jersey | 07823-1512 | 46,350
Fort Lee Housing Authority | 1403 Teresa Drive | Fort Lee | New Jersey | 07024-2102 | 45,457
Long Branch Housing Authority | P.O. Box 336-Garfield Court | Long Beach | New Jersey | 07740- | 42,500
Union City Housing Authority | 3911 Kennedy Blvd | Union City | New Jersey | 07087- | 46,150
Hunterdon Co. Housing Authority | 71 Main Street-Administration Bldg | Flemington | New Jersey | 08822-1200 | 46,331
Morris County Housing Authority | 99 Ketch Road | Morristown | New Jersey | 07960- | 46,350
Atlantic City Housing Authority | 227 No. Vermont Avenue | Atlantic City | New Jersey | 08404- | 36,050
Neptune Housing Authority | Box 726 | Neptune | New Jersey | 07753- | 37,153
Brick Housing Authority | 165 Chambers Bridge Road | Brick | New Jersey | 08723- | 46,100
Truth or Consequences Housing Authority | 108 South Cedar Street | Truth or Consequences | New Mexico | 87571- | 46,350
Alamogrodo Housing Authority | P.O. Box 5336 | Alamogordo | New Mexico | 88311-5336 | 46,350
Taos Co. Housing Authority | Box 4239 | Taos | New Mexico | 87571- | 35,252
Dona Ana Co. Housing Authority | 2407 W. Picacho, Suite A-2 | Las Curces | New Mexico | 88005- | 36,002
Clovis Housing Authority | P.O. Box 1240 | Clovis | New Mexico | 88102- | 30,487
Santa Fe Co. Housing Authority | 52 Camino De Jacobo | Santa Fe | New Mexico | 87502- | 38,792
Santa Fe Civic Housing Authority | P.O. Box 4039 | Santa Fe | New Mexico | 87502- | 39,140
Bernalillo Co. Housing Authority | 620 Lomas Blvd NW | Albuquerque | New Mexico | 87102- | 40,825
Region IV Housing Authority | 418 Main Street/EPCG | Clovis | New Mexico | 88101- | 32,782
Socoro Co. Housing Authority | PO Box 00 | Socorro | New Mexico | 87801- | 19,140
Amherst Town Housing Authority | 1195 Main Street | Buffalo | New York | 14029-2102 | 40,734
Colonie Town Housing Authority | 242 Union Street | Schenectady | New York | 12305- | 44,453
Guilderland Town Housing Authority | 242 Union Street | Schenectady | New York | 12305- | 43,990
NY State Division of Housing | 25 Beaver Street | New York | New York | 10004- | 23,175
Cohoes Housing Authority | 100 Manor Sites | Cohoes | New York | 12047-2603 | 37,371
North Tonawanda City Housing Authority | 1195 Main Street | Buffalo | New York | 14209- | 20,367
Babylon Housing Assist. Agency | 281 Phelps Land Room #9 | N. Babylon | New York | 11703-4006 | 45,928
Rochester Housing Authority | 140 West Avenue | Rochester | New York | 14611-2744 | 36,566
NYSHFA-DHCR | 25 Beaver Street | New York | New York | 10004- | 23,175
Yorktown Housing Authority | 363 Underhill Ave | Yorktown Heights | New York | 10598- | 46,350
North Fork Housing | 110 South Street | Greenport | New York | 1202-0300 | 37,500
Monticello Housing Authority | 76 Evergreen Drive | Monticello | New York | 12701-1630 | 46,331-
New Rochelle Municipal HA | 50 Sickles Avenue | New Rochelle | New York | 10801-4029 | 46,350
Gloversville Housing Authority | 181 West Street | Gloversville | New York | 12078-1911 | 41,581
City of White Plains Housing Authority | 255 Main Street | White Plains | New York | 10601-2475 | 18,000
Poughkeepsie City Housing Authority | P.O. Box 300 | Poughkeepsie | New York | 12602-0300 | 36,549
Amsterdam Housing Authority | 52 Division Street | Amsterdam | New York | 12010-4002 | 43,043
Fulton City Housing Authority | 125 West Broadway | Fulton | New York | 13069- | 28,731
Buffalo City Housing Authority | 470 Franklin Street | Buffalo | New York | 14202- | 39,000
Town of Smithtown Housing Authority | P.O. Box 575 | Smithtown | New York | 11944- | 44,594
Union Town Housing Authority | 3111 East Main Street | Endwell | New York | 13760- | 26,068
Schenectady Housing Authority | 375 Broadway | Schenectady | New York | 12305-2595 | 31,615
Poughkeepsie Housing Authority | 21 Charles Street | Poughkeepsie | New York | 12601-0632 | 44,440
Plattsburgh Housing Authority | 39 Oak Street | Plattsburgh | New York | 12901-2830 | 31,543
Albany Housing Authority | 4 Lincoln Square | Albany | New York | 12010-4002 | 42,948
Kiryas Joel Housing Authority | 51 Forest Road Suite 360 | Monroe | New York | 10950- | 46,350
Mountain Projects, Inc. | 2251 Old Balsam Road | Waynesville | North Carolina | 28786- | 29,049
Greensboro Housing Authority | P.O. Box 21287 | Greensboro | North Carolina | 27420- | 46,350
Wake County Housing Authority | P.O. Box 399 | Zebulon | North Carolina | 27597- | 28,223
East Spencer Housing Authority | P.O. Box 367 | East Spencer | North Carolina | 29039- | 37,004
Asheville Housing Authority | P.O. Box 1898 | Asheville | North Carolina | 28802- | 31,382
Northwestern Region Housing Authority | P.O. Box 2510 | Boon | North Carolina | 28607- | 34,145
Gastonia Housing Authority | P.O. Box 2398 | Gastonia | North Carolina | 28053- | 32,000
Raleigh Housing Authority | P.O. Box 28007 | Raleigh | North Carolina | 27611- | 36,660
Rowan County Housing Authority | 310 Long Meadow Drive | Salisbury | North Carolina | 28147- | 32,202
Asheboro Housing Authority | P.O. Box 609 | Asheboro | North Carolina | 27204- | 32,569
Economic Improvement Council | P.O. Box 549 | Edenton | North Carolina | 27932- | 28,567
Western Carolina C.A.A. | P.O. Box 685 | Hendersonville | North Carolina | 28793- | 29,268
Concord Department of Housing | P.O. Box 308 | Concord | North Carolina | 28025- | 13,831
Statesville Housing Authority | 110 West Allison Street | Statesville | North Carolina | 28677- | 41,419
Macon Prog. for Progress | P.O. Box 700 | Franklin | North Carolina | 28734- | 20,169
Winston-Salem Housing Authority | 901 Cleveland Avenue | Winston-Salem | North Carolina | 27101- | 42,000
Chatham County Housing Authority | 190 Sanford Street | Pittsboro | North Carolina | 27312- | 22,967
Rocky Mount Housing Authority | P.O. Box 4717 | Rocky Mount | North Carolina | 27803- | 31,149
Mid-East Regional Housing Authority | P.O. Box 1046 | Washington | North Carolina | 27889- | 23,277
Isothemal Planning & Development | P.O. Box 841 | Rutherfordton | North Carolina | 28139- | 30,480
Minot Housing Authority | 310 Second St. SE | Minot | North Carolina | 58701- | 20,688
Sandhills Community Action | P.O. Box 937 | Carthage | North Carolina | 29327- | 46,350
Sanford Housing Authority | P.O. Box 636 | Sanford | North Carolina | 27331- | 32,505
Graham Housing Authority | P.O. Box 88 | Graham | North Carolina | 27253- | 21,855
High Point Housing Authority | P.O. Box 1779 | High Point | North Carolina | 27261- | 46,350
Brunswick County Housing Authority | P.O. Box 9 | Bolivia | North Carolina | 28422- | 28,755
Laurinburg Housing Authority | P.O. Box 1437 | Lauringburg | North Carolina | 28358- | 39,937
Thomasville Housing Authority | 201 James Avenue | Thomasville | North Carolina | 27360- | 24,000
Twin Rivers Opportunity | P.O. Box 1482 | New Bern | North Carolina | 28563- | 35,371
Lexington Housing Authority | P.O. Box 1085 | Lexington | North Carolina | 27293- | 37,454
Durham Housing Authority | P.O. Box 1726 | Durham | North Carolina | 27702- | 46,104
Wilmington Housing Authority | P.O. Box 899 | Wilmington | North Carolina | 28402- | 35,589
Grand Forks Housing Authority | 1405 First Avenue N | Grand Forks | North Dakota | 58201- | 46,350
Tuscarawas Housing Authority | 134 Second Street, SW | New Philadelphia | Ohio | 4463- | 46,282
Chillicothe House Authority | 178 West Fourth Street | Chillocothe | Ohio | 45601- | 15,184
Pickaway Housing Authority | 176 Rustic Drive | Circleville | Ohio | 43113- | 24,092
Lorain Housing Authority | 1600 Kansas Ave. | Lorain | Ohio | 44052- | 46,105
Middletown Housing Authority | 128 City Centre Mall | Middletown | Ohio | 45402- | 22,160
Cincinnati Housing Authority | 16 West Central Parkway | Cincinnati | Ohio | 45210- | 46,350
Youngstown Housing Authority | 131 W. Boardman St | Youngston | Ohio | 44503- | 33,372
Cuyahoga Housing Authority | 1441 West 25th Street | Cleveland | Ohio | 44113- | 46,350
Hancock Housing Authority | 129 W. Sandusky St | Findlay | Ohio | 45840- | 19,496
Wayne Housing Authority | 200 Market Street | Wooster | Ohio | 44691- | 36,192
Fayette Housing Authority | 101 E. East Street | Washington Court | Ohio | 43106- | 26,892
Akron Housing Authority | 100 West Cedar Street | Akron | Ohio | 44307- | 31,574
Logan Housing Authority | 116 North Everett St | Bellefontain | Ohio | 43311- | 35,229
Adams Housing Authority | 900 Cemetary Street | Manchester | Ohio | 45144- | 31,714
Lucas Housing Authority | 435 Nebraska Avenue | Toledo | Ohio | 43697- | 38,464
Cambridge Housing Authority | P.O. Box 1388 | Cambridge | Ohio | 43725- | 29,916
Allen Housing Authority | 600 South Main Street | Lima | Ohio | 45804- | 29,616
Clermont Housing Authority | P.O. Box 151-65 S. Market Street | Batavia | Ohio | 45103- | 21,258
Vinton Housing Authority | P.O. Box 487 | McArthur | Ohio | 45651- | 32,730
Columbus Housing Authority | 960 East Fifth Avenue | Columbus | Ohio | 43201- | 43,267
Warren Housing Authority | 990 East Ridge Drive | Lebanon | Ohio | 45036- | 28,587
Hamilton Housing Authority | P.O. Box 69 | Wauseon | Ohio | 43567- | 41,286
Morrow Housing Authority | 298 East Center Street, Suite B | Marion | Ohio | 43302- | 31,471
Marietta-Housing Authority | P.O. Box 708 | Marietta | Ohio | 45750- | 35,457
Bowling Green Housing Authority | 304 N. Church St | Bowling Green | Ohio | 43402- | 30,705
Medina Housing Authority | 850 Walter Road | Medina | Ohio | 44256- | 31,090
Jefferson Housing Authority | 815 North Sixth Avenue | Steubenville | Ohio | 43952- | 44,099
Zanesville Housing Authority | 407 Pershing Road | Zanesville | Ohio | 43701- | 43,260
Morgan Housing Authority | 4580 North State Route #376 NW | McConnelsville | Ohio | 43756- | 17,000
Springfield Housing Authority | 437 East John Street | Springfield | Ohio | 45505- | 46,350
Portage Housing Authority | 2832 State Route 59 | Raveena | Ohio | 44266- | 38,223
Meigs Housing Authority | 237 Race Street | Middleport | Ohio | 45760- | 11,619
Dayton Housing Authority | 400 Wayne Avenue | Dayton | Ohio | 45410- | 39,322
Delaware Housing Authority | P.O. Box 1292 | Delaware | Ohio | 43051- | 39,338
Oklahoma Housing Finance Agency (OHFA) | PO Box 26720 | Oklahoma City | Oklahoma | 73126- | 38,617
Shawnee Housing Authority | PO Box 3427 | Shawnee | Oklahoma | 74802- | 39,314
Muskogee Housing Authority | 200 N 40th | Muskogee | Oklahoma | 74401- | 35,350
Stillwater Housing Authority | 807 S. Lowry | Stillwater | Oklahoma | 74074- | 32,782
Hugo Housing Authority | PO Box 727 | Hugo | Oklahoma | 74743- | 27,698
Oklahoma City PHA | 1700 N.E. 4th Street | Oklahoma | Oklahoma | 73117- | 24,162
Broken Bow Housing Authority | PO Box 177 | Broken Bow | Oklahoma | 74728- | 17,803
Norman Housing Authority | 700 North Berry Road | Norman | Oklahoma | 73069- | 36,696
Tulsa PHA | PO BOX 6369 | Tulsa | Oklahoma | 74148- | 37,785
Linn-Benton Housing Authority | 1250 SE Queen Avenue | Albany | Oregon | 97321- | 41,917
Portland Housing Authority | 135 SW Ash St | Portland | Oregon | 97204- | 46,350
HACSA of Lane Co. | 177 Day Island Road | Eugene | Oregon | 97401- | 46,350
Mid Columbia Housing Authority | 506 East 2nd Street | The Dalles | Oregon | 97058- | 29,512
Central Oregon Housing Authority | 2445 SW Canal Blvd | Remond | Oregon | 97756- | 32,233
Jackson County Housing Authority | 2231 Table Rock Road | Medford | Oregon | 97501- | 29,834
HA of Yamhill Co. | POB 865 | McMinniville | Oregon | 97128- | 39,305
City of Salem Housing Authority | POB 808 | Salem | Oregon | 97308- | 38,907
NE Oregon Housing Authority | POB 3357 | La Grande | Oregon | 97850- | 28,942
Northwest Oregon Housing Authority | 1508 Exchange | Astoria | Oregon | 97103- | 27,428
Lincoln County Housing Authority | POB 1470 | Newport | Oregon | 97365- | 28,973
Malheur County Housing Authority | 959 Fortner Street | Ontario | Oregon | 97914- | 21,176
Douglas County Housing Authority | 902 West Stanton Street | Roseburg | Oregon | 97204- | 30,118
Marion County Housing Authority | 3150 Lancaster Drive NE | Salem | Oregon | 97305- | 33,356
Washington Co. Housing Authority | 111 NE Lincoln | Hillsboro | Oregon | 97124- | 43,561
Clackamas Co. Housing Authority | POB 1510 | Oregon City | Oregon | 97045- | 46,350
Centre Co. Housing Authority | 602 E. Howard Street | Lewsburg | Pennsylvania | 17837- | 10,400
Lehigh Co. Housing Authority | 635 Broad Street | Carlisle | Pennsylvania | 17013- | 26,000
Williamsport Housing Authority | 505 Center Street | Milton | Pennsylvania | 17847- | 34,842
Union County Housing Authority | 1610 Industrial Blvd. | Emmaus | Pennsylvania | 18049- | 41,200
Montour Co. Housing Authority | One Beaver Place | Danville | Pennsylvania | 17821- | 46,350
Lancaster City Housing Authority | 325 Church Street | Lancaster | Pennsylvania | 17602- | 43,855
Westmoreland County Housing | R.D. #6, P.O. BOX 223 | Greensburg | Pennsylvania | 15601- | 39,155
Chester Housing Authority | 1010 Madison Street, P.O. Box 380 | Chester | Pennsylvania | 19016- | 46,200
Indiana County Housing Authority | 104 Philadelphia Street | Indiana | Pennsylvania | 15701- | 16,865
Altoona Housing Authority | 2700 Pleasant Valley Blvd. | Altoona | Pennsylvania | 16601- | 46,350
Dauphin Co. Housing Authority | PO Box 7598 | Steelton | Pennsylvania | 17113- | 38,858
Pittsburgh Housing Authority | 200 Ross Street, 9th Floor | Pittsburgh | Pennsylvania | 15216- | 35,000
Chester County Housing Authority | 30 West Barnard Street | West Chester | Pennsylvania | 19382- | 43,682
York Housing Authority | 31 S. Broad Street | York | Pennsylvania | 17405- | 38,436
Northumberland Co. Housing Authority | 50 Mahoning Street | Sunbury | Pennsylvania | 17801- | 28,462
Cumberland Co. Housing Authority | 114 North Hanover Street | Reading | Pennsylvania | 19606- | 14,751
Armstrong County Housing Authority | 350 S. Jefferson Street | Kittanning | Pennsylvania | 16201- | 19,154
Montogmery Co. Housing Authority | 1875 New Hope Street | Norristown | Pennsylvania | 19401- | 46,350
Delaware Co. Housing Authority | 1855 Constitution Avenue | Woodlyn | Pennsylvania | 19094- | 24,480
Harrisburg Housing Authority | 351 Chestnut Street | Harrisburg | Pennsylvania | 17101- | 45,612
Adams Co. Housing Authority | 139 Carlisle Street | Bellefonte | Pennsylvania | 16823- | 37,480
Berks Co. Housing Authority | 1803 Butter Lane | Williamsport | Pennsylvania | 17701- | 36,013
Sunbury Housing Authority | 705 Market Street, P.O. Box 458 | Indiana | Pennsylvania | 15701- | 28,462
Wilkes-Barre Housing Authority | 50 Lincoln Plaza | Wilkes-Barre | Pennsylvania | 18702- | 44,712
Caroline Housing Authority | P.O. Box 8 | Ponce | Puerto Rico | 00733- | 24,153
Ponce Housing Authority | P.O. Box 1709 | Ponce | Puerto Rico | 02882- | 24,434
Coventry RI Housing Authority | 14 Manchester Cricle | Cumberland | Rhode Island | 02864- | 39,000
East Greenwich, RI Housing Authority | 146 First Avenue | North Providence | Rhode Island | 02904- | 28,199
Providence, RI Housing Authority | 100 Broad Street | Providence | Rhodel Island | 02903- | 46,350
Cumberland, RI Housing Authority | One Mendon Road | Central Falls | Rhode Island | 02863- | 41,097
North Providence, RI Housing Authority | 945 Charles Street | Coventry | Rhode Island | 02864- | 35,513
Pawtucket, RI Housing Authority | 214 Roosevelt Avenue | Providence | Rhode Island | 02903- | 37,198
Narragansett, RI Housing Authority | 25 Fifth Avenue | East Greenwich | Rhode Island | 02818- | 37,700
Central Falls, RI Housing Authority | 30 Washington Street | Woonsocket | Rhode Island | 02895- | 29,926
Woonsockett, RI HA | 679 Social Street | Pawtucket | Rhode Island | 02862- | 10,300
Charleston County Housing Authority | P.O. Box 6188 | Anderson | South Carolina | 29624- | 30,489
Myrtle Beach Housing Authority | P.O. Box 2468 | Greenwood | South Carolina | 29624- | 39,988
Beaufort Housing Authority | P.O. Box 1104 | Conway | South Carolina | 29527- | 21,210
Greenwood Housing Authority | P.O. Box 973 | Florence | South Carolina | 29503- | 32,782
SC State Fin. & Dev | 919 Bluff Road | Columbia | South Carolina | 29201- | 41,191
Anderson Housing Authority | 1335 E. River Street | Myrtle Beach | South Carolina | 29578- | 31,808
Florence Housing Authority | P.O. Drawer 969 | Beaufort | South Carolina | 29901- | 28,591
Columbia Housing Authority | 1917 Harden Street | Columbia | South Carolina |  | 21,147
Conway Housing Authority | 2303 Leonard Avenue | Columbia | South Carolina | 29204- | 25,619
Mobridge Housing Authority | P.O. Box 370 | Mobridge | South Dakota | 57601- | 32,030
Brookings Housing Authority | Post Office Box 432 | Brookings | South Dakota | 57006- | 20,845
East TN Human Resource Agency Inc | 9111 Cross Park Drive | Knoxville | Tennessee | 37923- | 30,323
Jackson Housing Authority | P.O. Box 3188 | Jackson | Tennessee | 38301- | 38,934
Oak Ridge Housing Authority | 10 Van Hicks Lane | Oak Ridge | Tennessee | 37830- | 30,385
Crossville Housing Authority | P.O. Box 425 | Crossville | Tennessee | 38557- | 35,866
Kingsport Housing Authority | P.O. Box 44 | Kinsport | Tennessee | 37202- | 44,478
Metro Development & Housing | P.O. Box 846 | Nashville | Tennessee | 37202- | 46,350
Southeast TN Human Resource Agency | P.O. Box 909 | Dunlap | Tennessee | 37327- | 38,678
Montogmery Housing Authority | 1022 McCall | Conroe | Texas | 77301- | 29,981
Hidalgo County Housing Authority | 1800 N. Texas Blvd | Weslaco | Texas | 78596- | 36,786
Tarrant County Housing Authority | P.O. Box 672 | Taylor | Texas | 76574- | 41,689
Harris County Housing Authority | 2727 El Camino | Houston | Texas | 77054- | 33,835
Central Texas COG | P.O. Box 729 | Belton | Texas | 76513- | 31,569
Deep E. Texas COG | 274 E. Lamar | Jasper | Texas | 75951- | 30,404
Corpus Christi Housing Authority | 3701 Ayers Street | Corpus Christi | Texas | 78415- | 29,546
Corsicana Housing Authority | P.O. Box 1090 | Corsicana | Texas | 75110- | 41,609
Plano Housing Authority | P.O. Box 338 | Celeste | Texas | 75423- | 32,237
Rosenberg Housing Authority | 927 Second Street | Rosenberg | Texas | 77471- | 20,000
Lubbock Housing Authority | P.O. Box 2568 | Lubbock | Texas | 79408- | 27,012
Port Arthur Housing Authority | P.O. Box 2295 | Port Arthur | Texas | 77643- | 42,800
Tyler Housing Authority | P.O. Box 2039 | Tyler | Texas | 75710- | 39,000
Wichita Falls Housing Authority | P.O. Box 1431 | Witchita Falls | Texas | 76307- | 35,678
Texoma COG | 3201 Texoma Parkway | Sherman | Texas | 75020- | 33,000
Fort Worth Housing Authority | P.O. Box 430 | Fort Worth | Texas | 76101- | 39,348
Houston Housing Authority | P.O. Box 2971 | Houston | Texas | 77252- | 25,875
Brownsville Housing Authority | P.O. Box 4420 | Brownsville | Texas | 78523- | 22,324
Kingsville Housing Authority | 1000 W Corral | Kingsville | Texas | 78363- | 45,540
Austin Housing Authority | P.O. Box 6159 | Austin | Texas | 78762- | 32,448
Garland Housing Authority | 210 Carver St. | Garland | Texas | 75046- | 39,436
Cameron County Housing Authority | P.O. Box 5806 | Brownsville | Texas | 78520- | 37,469
Texas City Housing Authority | 817 Second Avenue North | Texas City | Texas | 77590- | 24,846
Baytown Housing Authority | 805 Nazro Street | Baytown | Texas | 77520- | 43,984
Galveston Housing Authority | 4700 Broadway | Galveston | Texas | 77551- | 33,592
San Angelo Housing Authority | 115 West 1st Street | San Angelo | Texas | 76903- | 30,821
Harlingen Housing Authority | P.O. Box 1669 | Harlingen | Texas | 78551- | 32,251
Waco Housing Authority | P.O. Box 978 | Waco | Texas | 76703- | 33,954
Arlington Housing Authority | 501 W. Sanford St | Arlington | Texas | 76011- | 40,842
Provo Housing Authority | 650 W. 100 N | Provo | Utah | 84601- | 38,545
Cedar City Housing Authority | 2390 West HWY 56 | Cedar City | Utah | 84720- | 40,344
Utah County Housing Authority | 240 E. Center | Provo | Utah | 84606- | 37,388
Salt Lake City Housing Authority | 1776 SW Temple | Salt Lake City | Utah | 84115- | 24,077
Salt Lake County Housing Authority | 3595 S. Main Street | Salt Lake City | Utah | 84115- | 39,891
Davis County Housing Authority | P.O. Box 328 | Farmington | Utah | 84025- | 36,052
West Valley City Housing Authority | 3600 Constitution Blvd | West Valley City | Utah | 84119- | 31,606
Vermont State Housing Authority | One Prospect Street | Montpelier | Vermont | 05602- | 42,769
Burlington, VT Housing Authority | 230 St. Paul Street | Burlington | Vermont | 05401- | 35,025
VIHA PHA (Virgin Islands) | P.O. Box 7668 | St. Thomas | Virgin Island | 00801- | 45,798
Virginia Beach Housing Authority | 2424 Courthouse Drive, Building 18A | Virginia Beach | Virginia | 23456- | 33,121
Hampton Housing Authority | P.O. Box 280 | Hampton | Virginia | 23669- | 33,566
Newport News Housing Authority | P.O. Box 77 | Newport News | Virginia | 23607- | 46,350
Lee & Wise County | P.O. Box 665 | Jonesville | Virginia | 24263- | 31,702
Charlottesville Housing Authority | P.O. Box 1405 | Charlottesville | Virginia | 22902- | 23,373
Albemarle Housing Authority | 401 McIntire Road | Charlottesville | Virginia | 22902- | 41,280
Chesapeake Housing Authority | P.O. Box 1304 | Chesapeake | Virginia | 23320- | 37,225
Portsmouth Housing Authority | P.O. Box 1098 | Portsmouth | Virginia | 23705- | 36,612
Waynesboro Housing Authority | 1700 New Hope Road | Waynesboro | Virginia | 22980- | 29,943
City Of Tacoma Housing Authority | 902 South L. Street | Tacoma | Washington | 98405- | 38,064
Vancouver Housing Authority | 2500 Main Street | Vancouver | Washington | 98660- | 39,665
City Of Everett Housing Authority | P.O. Box 1547 | Everett | Washington | 90206- | 38,025
Spokane Housing Authority | West 55 Mission Street | Spokane | Washington | 99201- | 46,350
Walla Walla Housing Authority | 501 Cayuse Street | Walla Walla | Washington | 99362- | 26,000
Thurston County Housing Authority | 505 West Fourth Avenue | Olympia | Washington | 98501- | 46,350
Pierce County Housing Authority | P.O. Box 45410 | Tacoma | Washington | 98445- | 40,566
City Of Richland Housing Authority | 650 George Washington Way | Richland | Washington | 99352- | 42,561
Snohomish County Housing Authority | 12645 4th Avenue West, Suite 200 | Everett | Washington | 98204- | 24,383
City Of Pasco Housing Authority | 820 North First Avenue | Pasco | Washington | 99301- | 34,961
Island County Housing Authority | 7 Northwest 6th Street | Coupeville | Washington | 98239- | 43,260
Wenatchee Housing Authority | 1555 South Methow Street | Wenatchee | Washington | 98801- | 34,128
King County Housing Authority | 15455 65th Avenue South | Seattle | Washington | 98188- | 46,350
Kitsap County Consolidated | 9265 Bayshore Drive Northwest | Silverdale | Washington | 98383- | 43,870
City Of Kennewick Housing Authority | P.O. Box 6737 | Kennewick | Washington | 99336- | 45,895
City Of Bremerton Housing Authority | P.O. Box 4460 | Bremerton | Washington | 98312- | 20,686
Asotin County Housing Authority | 1212 Fair Street | Clarkston | Washington | 99403- | 28,730
Clallam County Housing Authority | 2603 South Francis Street | Port Angeles | Washington | 98362- | 40,973
Jefferson County Housing Authority | P.O. Box 2109 | Port Townsend | Washington | 98368- | 27,958
City Of Longview Housing Authority | 1207 Commerce Avenue | Longview | Washington | 98632- | 29,046
Grant County Housing Authority | 1139 Larson Boulevard | Moses Lake | Washington | 98837- | 41,235
Yakima Housing Authority | P.O. Box 2910 | Yakima | Washington | 98907- | 37,854
Bellingham Housing Authority | P.O. Box 9701 | Bellingham | Washington | 98227- | 37,912
Kanawha County Housing & Redevelopment Auth. | P.O. Box 3826 | Charleston | West Virginia | 25338- | 32,785
Charleston Housing Agency | P.O. Box 86 | Charleston | West Virginia | 25321- | 30,276
Mingo County Housing Authority | P.O. Box 2239 | Williamson | West Virginia | 25661- | 19,800
Raleigh County Housing Authority | P.O. Box BD | Beckley | West Virginia | 26802- | 29,457
HA of the City of Weirton | 525 Cove Road | Weirton | West Virginia | 26062- | 26,263
Parkersburg Housing Authority | 1901 Cameron Avenue | Parkersburg | West Virginia | 26101- | 24,000
Benwood Housing Authority | 2200 Marshall Street | Benwood | West Virginia | 26301- | 32,160
Huntington WV Housing Authority | P.O. Box 2183 | Huntington | West Virginia | 25722- | 30,967
Greenbrier County Housing Authority | 103 W Randolph St | Lewisburg | West Virginia | 24901- | 20,420
Housing Authority of the City of Buckhannon | 23½ Hinkle Drive | Buckhannon | West Virginia | 26201- | 19,920
Housing Authority of the City Fairmont | 517 Fairmont Avenue | Fairmont | West Virginia | 26554- | 22,660
Eau Claire County Housing Authority | 721 Oxford Avenue, Rm 1590 | Eau Clair | Wisconsin | 54703- | 35,049
Dunn County Housing Authority | 1421 Stout Rd., Suite 100 | Menomonie | Wisconsin | 54751- | 33,901
Racine Co. Housing Authority | 837 Main Street | Racine | Wisconsin | 53403- | 39,030
Milwaukee Co. Housing Authority | 907 North 10th Street | Milwaukee | Wisconsin | 53233- | 45,264
Kenosha County Housing Authority | 625-52nd Street | Kenosha | Wisconsin | 53104- | 39,778
Green Bay City Housing Authority | 100 North Jefferson St., Rm 608 | Green Bay | Wisconsin | 54301- | 40,796
Appleton Housing Authority | 525 North Oneida Street | Appleton | Wisconsin | 54911- | 35,425
Walworth County Housing Authority | Courthouse Annex, W3929 County NN | Elkhorn | Wisconsin | 53121- | 33,383
Superior Housing Authority | 1219 N. Eighth Street | Superior | Wisconsin | 54880- | 37,507
Cheyenne Housing Authority | 3304 Sheridan Ave | Cheyenne | Wyoming | 82009- | 24,928
Casper Housing Authority | 1607 CY Ave., Suite 301 | Casper | Wyoming | 82604- | 20,267

Fiscal Year 1999 Funding Awards for Family Self-Sufficiency Supplemental
Applicant name | Applicant address | City | State | Zip | Amount
Arkadelphia Housing Authority | 670 South 6th | Arkadelphia | Arkansas | 71923- | $32,800
Stanislaus Housing Authority | 1701 Robertson Road | Modesto | California | 95352- | 46,350
Pasadena Housing Authority | 100 N. Garfield | Pasadena | California | 91109- | 44,279
San Mateo Housing Authority | 264 Harbor Boulevard Bldg. A | Belmont | California | 94002- | 46,350
San Joaquin Housing Authority | PO Box 447 | Stockton | California | 95291- | 41,746
Santa Rosa Housing Authority | PO Box 1806 | Santa Rosa | California | 95402- | 46,350
Pomona Housing Authority | 505 S. Garvey | Pomona | California | 91769- | 46,350
Santa Ana Housing Authority | 20 Civic Plaza | Santa Ana | California | 92702 | 46,350
San Diego County Housing Authority | 3989 Ruffins Rd | San Diego | California | 92123- | 46,350
Santa Monica Housing Authority | 2121 Cloverfield Boulevard | Santa Monica | California | 90404- | 46,350
Yolo County Housing Authority | PO Box 1867 | Woodland | California | 95776- | 31,782
Nevada County Housing Authority | 10433 Willow Valley Rd | Nevada City | California | 95953- | 31,502
Vallejo Housing Authority | PO Box 1432 | Vallejo | California | 94590- | 46,350
Loveland Housing Authority | 375 West 37th Street | Loveland | Colorado | 80538- | 23,829
Bridgeport Housing Authority | 150 Highland Avenue | Bridgeport | Connecticut | 06604- | 39,000
Connecticut Department of Social Services | 25 Sigourney Street | Hartford | Connecticut | 06106- | 40,190
Ocala Housing Authority | P.O. Box 2468 | Ocala | Florida | 34478-2468 | 45,220
Miami-Dade Housing Authority | 1401 NW 7th Street | Miami | Florida | 33125- | 46,350
Lee County Housing Authority | 14170 Warner Circle NW | North Fort | Florida | 33903- | 23,500
City of Fort Pierce Housing Authority | 707 North 7th Street | Fort Pierce | Florida | 33450- | 44,641
City of Tampa Housing Authority | 1514 Union Street | Tampa | Florida | 33607- | 46,350
Hialeah Housing Authority | 70 East 7th Street | Hialeah | Florida | 33010- | 19,406
Hillborough County Housing Authority | P.O. Box 1110 | Tampa | Florida | 33601- | 46,249
Fulton County Housing Authority | 10 Park Place South, S.E | Atlanta | Georgia | 30303-2928 | 43,673
Decatur Housing Authority | P.O. Box 1627 | Decatur | Georgia | 30031- | 45,007
Augusta Housing Authority | P.O. Box 3248 | Augusta | Geogia | 30904-1246 | 42,645
Springfield Housing Authority | 200 North 11th Street | Springfield | Illinois | 62703- | 42,642
Kokomo Housing Authority | 210 East Taylor Street | Kokomo | Indiana | 46903-1207 | 31,521
South Bend Housing Authority | 501 South Scott Street | Southbend | Indiana | 46634-0057 | 32,960
Lafayette Housing Authority | 100 Executive Drive | Lafayette | Indiana | 47903-6687 | 32,787
Hammond Housing Authority | 7329 Columbia Circle West | Hammond | Indiana | 46324- | 35,834
Gary Housing Authority | 578 Broadway | Gary | Indiana | 46402- | 31,437
Council Bluffs Housing Authority | 505 S. Sixth St. | Council Bluffs | Iowa | 51501- | 32,712
Chanute Housing Authority | 110 South Ronda Lane | Chanute | Kansas | 66720-1954 | 13,963
Atchinson Housing Authority | 103 S. 7th Street | Atchison | Kansas | 66002 | 13,649
Wichita Housing Authority | 321 N. Riverview | Wichita | Kansas | 67203- | 46,350
City of Covington Housing Authority | 638 Madison Avenue | Covington | Kentucky | 41011-2298 | 46,350
Campbellsville Public Housing Authority/Bardstown | PO Box 597 | Campbellsville | Kentucky | 42719- | 24,206
Richmond Section 8 | PO Box 250 | Richmond | Kentucky | 40476- | 31,468
New Orleans Housing Authority | 918 Carondelet | New Orleans | Louisiana | 71030- | 31,200
Shreveport Housing Authority | 623 Jordan | Shreveport | Louisiana | 71101- | 45,760
Calcasieu Parish Housing Authority | PO Box 1583 | Lake Charles | Louisiana | 70602-1583 | 20,061
Mt. Desert Housing Authority | PO Box 28 | Bar Harbor | Maine | 04609- | 34,951
Howard County Housing Authority | 6751 Columbia Gateway Dr. 3rd Fl | Columbia | Maryland | 21046- | 30,359
Anne Arundel Co | 7885 Gordon Court | Glen Burnie | Maryland | 21060-2817 | 33,025
Baltimore City Housing Authority | 417 E. Fayette Street | Baltimore | Maryland | 21202- | 46,090
Tewksbury Housing Authority | Saunders Circle | Tewksbury | Massachusetts | 02741 | 16,200
New Bedford Housing Authority | 134 South Second Street | New Bedford | Massachusetts | 02471- | 45,128
Boston Housing Authority | 52 Chauncy Street | Boston | Massachusetts | 02111- | 46,350
Flint Housing Commission | 3820 Richfield Road | Flint | Michigan | 48508- | 40,000
Michigan State Housing Development Authority | 401 S. Washington Sq. PO Box 30044 | Lansing | Michigan | 48909- | 44,000
Wyoming Housing Corporation | 2450 36th Street | Wyoming | Michigan | 49509- | 36,638
Virginia HRA | 442 Pine Mill Court | Virginia | Minnesota | 55792-3040 | 46,350
Long Beach Housing Authority | PO Box 418 | Long Beach | Mississippi | 39560- | 18,500
Mississippi Regional Housing Authority VI | PO Drawer 8746 | Jackson | Mississippi | 39284-8746 | 44,269
Biloxi Housing Authority | PO Box 447 | Biloxi | Mississippi | 39533- | 20,500
Jasper County Housing Authority | 305 Virginia | Joplin | Missouri | 64802- | 23,522
Independence Housing Authority | 210 Pleasant Avenue | Independence | Missouri | 64050- | 40,170
New Hampshire Housing Finance Authority | PO Box 5087 | Manchester | New Hampshire | 03108- | 45,360
Laconia Housing and Redevelopment | 25 Union Avenue | Laconia | New Hampshire | 03246- | 37,492
Jersey City Housing Authority | 400 US Highway #1 | Jersey City | New Jersey | 07309- | 46,200
Paterson DCD | 125 Ellison Street 4th Floor | Paterson | New Jersey | 07505- | 28,840
Glassboro Housing Authority | 737 Lincoln Blvd | Glassboro | New Jersey | 08028- | 30,835
Albuquerque Housing Authority | 1840 University SE | Albuquerque | New Mexico | 87106- | 38,501
Region VI Housing Authority | 226 N. Main St. Suite 301 | Roswell | New Mexico | 88202- | 21,112
Region II Housing Authority | 220 Bernalillo Street | Las Vegas | New Mexico | 87701- | 40,320
Port Jervis Community Development | 13-19 Jersey Avenue P.O. Box 1002 | Port Jervis | New York | 12771- | 29,733
Bethlehem Tn | 242 Union Street | Schenectady | New York | 12305-1497 | 21,995
Coeymans Tn | 242 Union Street | Schenectady | New York | 12305-1497 | 21,995
Rotterdam Tn | 242 Union St | Schenectady | New York | 12305-1497 | 46,350
Ithaca Housing Authority | 800 South Plain Street | Ithaca | New York | 14850-5353 | 46,350
NYC Department of Housing Preservation and Development | 100 Gold Street | New York | New York | 10038-1605 | 46,350
Syracuse Housing Authority | 516 Burt Street | Syracuse | New York | 13202-3999 | 44,079
Franklin-Vance-Warren Opportunity, Inc | P.O. Box 1453 | Henderson | North Carolina | 27536- | 37,861
Charlotte Housing Authority | P.O. Box 36795 | Charlotte | North Carolina | 28326- | 41,180
Kinston Housing Authority | P.O. Box 697 | Kinston | North Carolina | 28502- | 32,500
Coastal Community Action Agency | P.O. Box 90 | Beaufort | North Carolina | 28516- | 30,974
DOP Consolidated Human Services Agency | P.O. Drawer 796 | Jacksonville | North Carolina | 28541- | 24,067
Greenville Housing Authority | P.O. Box 1426 | Greenville | North Carolina | 27832-4 | 30,083
Fargo Housing Authority | P.O. Box 430 | Fargo | North Dakota | 58107- | 34,604
Stutsman County Housing Authority | 217 First Avenue North | Jamestown | North Dakota | 58072- | 24,157
Erie Metropolitan Housing Authority | 322 Warren Street | Sandusky | Ohio | 44870- | 45,508
Jackson Metropolitan Housing Authority | P.O. Box 619 | Wellston | Ohio | 45692- | 35,666
Coos-Curry Housing Authority | 1700 Monroe | North Bend | Oregon | 97459- | 34,635
Klamath Housing Authority | P.O. Box 5110 | Klamath Falls | Oregon | 97601- | 21,742
Philadelphia Housing Authority | 12 S. 23rd Street | Philadelphia | Pennsylvania | 19103- | 44,247
Clarion County Housing Authority | 8 West Main Street | Clarion | Pennsylvania | 16214- | 33,550
Butler County Housing Authority | 111 South Cliff Street | Butler | Pennsylvania | 16003- | 37,548
Municipality of Aguas Buenas | P.O. Box 128 | Aguas Buenas | Puerto Rico | 00703- | 17,486
Municipality of Hormigueros | Box 97 | Hormigueros | Puerto Rico | 00660- | 46,350
Municipality of Adjuntas | Box 1009 | Adjuntas | Puerto Rico | 00601- | 17,700
Municipality of Isabela | Box 507 | Isabela | Puerto Rico | 00662- | 12,106
Municipality of Bayamon | Box 2988 | Bayamon | Puerto Rico | 00960- | 17,330
Rhode Island Housing and Mortgage Finance Corp | 44 Washington Street | Providence | Rhode Island | 02903- | 46,150
Greenville Housing Authority | P.O. Box 10047 | Greenville | South Carolina | 29603 | 25,283
Spartanburg Housing Authority | P.O. Box 2828 | Spartanburg | South Carolina | 29306- | 36,400
City of Charleston Housing Authority | 20 Franklin Street | Charleston | South Carolina | 29401- | 40,170
Sioux Falls Housing and Redevelopment Commission | 804 S. Minnesota Avenue | Sioux Falls | South Dakota | 57104- | 36,761
Tennessee Housing Development Agency | PO Box 3550 | Knoxville | Tennessee | 37927-3550 | 35,692
El Paso Housing Authority | PO Box 9895 | El Paso | Texas | 07999- | 31,624
Midland County Housing Authority | 600 N. Baird Suite B | Midland | Texas | 79701- | 35,854
Mesquite Housing Authority | PO Box 850137 | Mesquite | Texas | 75148- | 22,355
City of Longview Housing Authority | PO Box 1952 | Longview | Texas | 75606-1952 | 37,249
City of Grand Prairie Housing & Community Development | PO Box 534045 | Grand Prairie | Texas | 75053-4245 | 40,776
Beaumont Housing Authority | PO Box 1312 | Bueaumont | Texas | 77708- | 33,084
Anthony Housing Authority | PO Box 1710 | Anthony | Texas | 79821- | 25,013
Travis County Housing Authority | PO Box 1527 | Austin | Texas | 78767- | 34,420
Pharr Housing Authority | 211 W AUDREY | Pharr | Texas | 78577- | 41,195
Panhandle Community Services | PO Box 32150 | Amarillo | Texas | 79129-2150 | 40,442
Mission Housing Authority | 906 E 8th Street | Mission | Texas | 78572- | 16,993
Texarkana Housing Authority | 1611 N. Robinson Road | Texarkana | Texas | 75501- | 23,607
Edinburg Housing Authority | PO Box 295 | Edinburg | Texas | 78540- | 34,966
San Antonio Housing Authority | PO Drawer 1300 | San Antonio | Texas | 78295- | 39,415
Dallas Housing Authority | 3939 N. Hampton | Dallas | Texas | 75212- | 42,120
South Plains Regional Housing Authority | PO Box 690 | Levelland | Texas | 79336- | 24,898
Port Isabel Housing Authority | PO Box 1196 | Port Isabell | Texas | 78578-1196 | 21,500
Grand County Housing Authority | 1075 S. Highway 191 Suite B | Moab | Utah | 84532- | 14,560
Carbon County Housing Authority | 251 South 1600 East | Price | Utah | 84501- | 18,236
Barre Housing Authority | 4 Humbert Street | Barre | Vermont | 05641- | 24,092
Norfolk Redevelopment Housing Authority | PO Box 968 | Norfolk | Virginia | 23501- | 41,727
Grays Harbor County Housing Authority | 602 East First Street | Aberdeen | Washington | 98520-2665 | 38,384
City of Seattle Housing Authority | 120 Sixth Ave., No | Seattle | Washington | 98109- | 46,350
Beckley Housing Authority | PO Box 1780 | Beckley | West Virginia | 25802-1780 | 22,620
Wheeling Housing Authority | 11 Community St.—Elm Grove | Wheeling | West Virginia | 26003-0289 | 35,050
Waukesha Housing Authority | 120 Corrina Blvd | Waukehs | Wisconsin | 53186- | 46,350
Waukesha County Housing Authority | 120 Corrina Blvd | Waukens | Wisconsin | 53186- | 41,338

Fiscal Year 1999 Funding Award for Family Unification Program
Applicant name | Address | City | State | Zip | Amount
Housing Authority of the City of Yuma | 1350 West Colorado St | Yuma | Arizona | 85364 | $564,684
Alameda County Housing Authority | 22941 Atherton Street | Haywood | California | 94541 | 584,964
Anaheim Housing Authority | 201 S. Anaheim Blvd., Ste 203 | Anaheim | California | 92805 | 747,491
City of Los Angeles Housing Authority | 2600 Wilshire Blvd | Los Angeles | California | 90057 | 882,744
County of Los Angeles Housing Authority | 4800 Cesar Chavez Avenue | Los Angeles | California | 90022 | 780,324
Fresno City Housing Authority | 1331 Fulton Mall | Fresno | California | 93776 | 330,770
Fresno County Housing Authority | 1331 Fulton Mall | Fresno | California | 93776 | 330,770
Mendocino Co. Community Development | 1076 N. State St | Ukiah | California | 95482 | 106,864
Merced Co. Housing Authority | 405“U” Street | Merced | California | 95340 | 626,783
Monterey Co. Housing Authority | 123 Rico Street | Salinas | California | 93907 | 132,364
Oceanside Housing Authority | 300 N. Coast Highway | Oceanside | California | 92054 | 623,892
Riverside Co. Housing Authority | 5555 Arlington Avenue | Riverside | California | 92504 | 576,636
Sacramento City Housing Authority | 601 I Street | Sacramento | California | 95814 | 563,377
Sacramento County Housing Authority | 6011 I Street | Sacramento | California | 95814 | 563,232
San Bernardino County HA | 1053 North “D” Street | San Bernardino | California | 92410 | 302,298
San Diego County Housing Authority | 3989 Ruffin Road | San Diego | California | 92123 | 636,552
San Jose City Housing Authority | 505 W. Julian Street | San Jose | California | 95110 | 1,346,099
Santa Clara County Housing Authority | 505 W. Julian Street | San Jose | California | 95110 | 1,165,518
Stanislaus Co. Housing Authority | PO Box 581918 | Modesto | California | 95358 | 319,368
Jefferson County Housing Authority | 6025 West 38th Avenue | Wheatridge | Colorado | 80033 | 687,108
District of Columbia Housing Authority | 1133 North Capitol, NE | Washington, DC | District of Columbia | 20002 | 532,717
Brevard County Housing Authority | 615 Kuret Court | Merritt Island | Florida | 32953 | 626,484
Broward County Housing Authority | 1773 N. State Road | Lauderhill | Florida | 33313 | 530,619
Hialeah Housing Authority | 70 East 7th Street | Hialeah | Florida | 33010 | 817,008
Lakeland Housing Authority | 430 S. Hartsell Ave., PO Box 1009 | Lakeland | Florida | 33802 | 396,865
Miami-Dade Housing Agency | 1401 NW 7th Street | Miami | Florida | 33125 | 845,352
Palm Beach County Housing Authority | 3432 West 45th Street | West Palm Beach | Florida | 33407 | 837,300
Pasco County Housing Authority | 14517 7th Street | Dade City | Florida | 33523 | 586,092
Tampa Housing Authority | 1514 Union Street | Tampa | Florida | 33607 | 752,352
Atlanta HA | 1720 Peachtree Street, NW | Atlanta | Georgia | 30309 | 1,044,000
Augusta HA | PO Box 3246 | Augusta | Georgia | 30914 | 524,652
Decatur Housing Authority | PO Box 1627 | Decatur | Georgia | 30031 | 427,074
Rome Housing Authority | PO Box 1428 | Rome | Georgia | 30162 | 102,678
Guam HURA | 117 Bien Venida Avenue | Sinajana | Guam | 96926 | 944,412
Champaign Housing Authority | 205 West Park Avenue | Champaign | Illinois | 61820 | 218,346
Chicago Housing Authority | 626 West Jackson Blvd | Chicago | Illinois | 60661 | 948,048
Kokomo Housing Authority | 210 E. Taylor St., PO Box 1207 | Kokomo | Indiana | 46903 | 12,951
Broussard PHA | PO Box 553 | Broussard | Louisiana | 70518 | 186,716
Housing Authority City of Baltimore | 417 E. Fayette Street | Baltimore | Maryland | 21202 | 428,274
Housing Authority of Prince George's County | 9400 Peppercorn Place | Largo | Maryland | 20774 | 982,176
MA Dept. of Housing and Community Dev. (DHCD) | 1 Congress Street | Boston | Massachusetts | 02114 | 927,528
Worecester MA Housing Authority | 40 Belmont Street | Worcester | Massachusetts | 01749 | 428,856
Dearborn Hts HC | 26155 Richardson | Dearborn Heights | Michigan | 48127 | 381,924
Kent County HC | 741 East Beltline Avenue NE | Grand Rapids | Michigan | 49505 | 271,170
Saginaw HC | 2811 Davenport St. Box A | Saginaw | Michigan | 48602 | 494,784
Metropolitan Council HRA | 230 East Fifth Street | St. Paul | Minnesota | 55101 | 572,712
Mississippi Regional HA No. VI | PO Drawer 8746 | Jackson | Mississipi | 39284 | 728,365
City of Las Vegas Housing Authority | 420 N. 10th Street | Las Vegas | Nevada | 89101 | 738,132
Clark Co. Housing Authority | 5390 East Flamingo Rd. | Las Vegas | Nevada | 89122 | 638,581
Nevada Rural Housing Authority | 2100 California Street | Carson City | Nevada | 89701 | 678,020
NJ Department of Community Affairs | PO Box 51 | Trenton | New Jersey | 08625 | 745,846
Bernalillo County Housing Authority | 620 Lomas Blvd. NW |  | New Mexico | 87102 | 518,712
Binghamton Housing Authority (NEW) | 35 Exchange St | Binghamton | New York | 13901 | 231,933
NYC Depart. of Hsg. Preservation & Dev. | 100 Gold St. Rm 501 | New York | New York | 10038 | 1,003,716
NYS DHCR | 25 Beaver St | New York | New York | 10004 | 997,825
NYSHFA-DHCR | 25 Beaver Street | New York | New York | 10004 | 283,895
Rochester Housing Authority | 675 W. Main Street | Rochester | New York | 14611 | 532,872
Town of Amherst Housing Authority | 1195 Main Street | Buffalo | New York | 14209 | 611,245
Greensboro Housing Authority | PO Box 21287 | Greensboro | North Carolina | 27420 | 604,728
Winston-Salem Housing Authority | 901 Cleveland Avenue | Winston-Salem | North Carolina | 27420 | 743,328
Cuyahoga Housing Authority/Eden, Inc. | 1441 West 25th Street | Cleveland | Ohio | 44113 | 655,248
Dayton Housing Authority | 400 Wayne Avenue | Dayton | Ohio | 45410 | 552,013
Fayette Housing Authority | 121 E. East Street | Washington Court House | Ohio | 43160 | 186,966
Highland Housing Authority (NEW) | 121 E. East Street | Washington Court House | Ohio | 43160 | 209,524
Licking Housing Authority | 85 West Church Street | Newark | Ohio | 43055 | 248,940
Middletown Housing Authority | 128 City Centre Mall | Middletown | Ohio | 45042 | 398,544
Wayne Housing Authority | 200 South Market Street | Wooster | Ohio | 44591 | 59,998
Zanesville Housing Authority | 407 Pershing Road | Zanesville | Ohio | 43701 | 178,908
Muskogee Housing Authority | 200 N. 40th Street | Muskogee | Oklahoma | 74402 | 195,065
Oklahoma City Housing Authority | 1700 N.E. 4th Street | Oklahoma | Oklahoma | 73117 | 221,754
Douglas County Housing Authority | 902 West Stanton Street | Roseburg | Oregon | 97470 | 193,549
Housing Authority of Jackson County | 2231 Table Rock Rd | Medford | Oregon | 97501 | 283,104
Polk County Housing Authority | PO Box 467 | Dallas | Oregon | 97338 | 296,328
Delaware County Housing Authority | 1855 Constitution Avenue | Woodlyn | Pennsylvania | 19094 | 612,083
Wayne County HA | 130 Carbondale Road | Waymart | Pennsylvania | 18472 | 63,668
Municipality of Bayamon | PO Box 1588 | Bayamon | Puerto Rico | 00960 | 463,920
Municipality of Dorado | Box 588 | Dorado | Puerto Rico | 00646 | 225,150
Rhode Island Housing and Mortgage Finance Corp | 44 Washington Street | Providence | Rhode Island | 02903 | 587,567
Anthony Housing Authority | PO Box 1710 | Anthony | Texas | 79821 | 310,470
Beaumont Housing Authority | PO Box 1312 | Beumont | Texas | 77704 | 425,892
City of Amarillo Housing Authority | PO Box 1971 | Amarillo | Texas | 79105 | 162,291
Corsicana Housing Authority | PO Box 1090 | Corsicana | Texas | 75151 | 229,542
Hidalgo County Housing Authority | 1800 N. Texas Blvd | Weslaco | Texas | 78596 | 192,090
Houston Housing Authority | PO Box 2971 | Houston | Texas | 77252 | 262,668
Texoma COG (Fanning Co.) | 3201 Texoma Parkway, Suite 240 | Sherman | Texas | 75090 | 100,227
Texoma COG (Grayson Co.) | 3201 Texoma Parkway, Suite 240 | Sherman | Texas | 72090 | 117,920
Burlington Housing Authority | 230 St. Paul Street | Burlington | Vermont | 05401 | 685,176
Albermarle Housing Authority | 401 McIntire Road | Charlottesville | Virginia | 22902 | 322,668
Charlottesville Housing Authority | PO Box 1405 | Charlottesville | Virginia | 22902 | 68,664
Jefferson County Housing Authority | PO Box 2109 | Port Townsend | Washington | 98368 | 241,758
Spokane Housing Authority | West 55 Mission Ste 104 | Spokane | Washington | 99201 | 417,733
Thurston County Housing Authority | 503 West Fourth Avenue | Olympia | Washington | 98501 | 142,114

Fiscal Year 1999 Funding Awards for Designated Housing Plans
Applicant name | Applicant address | City | State | Zip | Amount
Danbury Housing Authority | 2 Mill Ridge Road | Danbury | Connecticut | 06813- | $1,000,792
Middletown Housing Authority | 40 Broad Street | Middletown | Connecticut | 06457- | 200,688
Distirct of Columbia Housing Authority | 1133 North Capitol, NE | Washington, DC | District of Columbia | 20001- | 278,323
Miami-Dade Housing Authority | 111 NW 1st St. 29th Floor | Miami | Florida | 33125- | 2,039,440
Tampa Housing Authority | 1514 Union Street | Tampa | Florida | 33607- | 605,700
Chicago Housing Authority | 626 West Jackson Blvd | Chicago | Illinois | 60661- | 1,116,768
Witchita Housing Authority | 455 North Main | Witchita | Kansas | 67202- | 714,945
Lawrence Housing Authority | 1600 Haskell Avenue | Lawrence | Kansas | 66044- | 124,230
Framingham Housing Authority | 1 John J. Brady Drive | Framingham | Massachusetts | 01702- | 866,600
Boston Housing Authority | 52 Chauncy Street | Boston | Massachusetts | 02111- | 1,555,216
City of Las Vegas | P.O. Box 1897 | Las Vegas | Nevada | 89125- | 1,023,432
New York City Housing Authority | 250 Broadway | New York | New York | 10007- | 1,563,073
Buffalo Municipal Housing Authority | 300 Perry Street | Buffalo | New York | 14204- | 385,224
Charlotte Housing Authority | P.O. Box 36795 | Charlotte | North Carolina | 28236- | 983,040
Butler County Housing Authority | 111 S. Cliff Street | Butler | Pennsylvania | 16003-1917 | 238,215
Philadelphia Housing Authority | 12 South 23rd Street | Philadelphia | Pennsylvania | 19103- | 856,782
Bucks County | 350 Main Street, Suite 205 | Doylestown | Pennsylvania | 18901- | 787,026
Bristol Housing Authority | P.O. Box 535 | Bristol | Rhode Island | 02809-0535 | 185,664

Fiscal Year 1999 Funding Awards for Project-Based Developments
Applicant name | Address | City | State | Zip | Amt funded
Danbury Housing Authority | 2 Mill Ridge Road | Danbury | Connecticut | 06813- | $321,888.00
Jefferson Parish Housing Authority | 1716 Betty Street | Marrero | Louisiana | 70072- | 778,584.00
Shreveport Housing Authority | 623 Jordan Street | Shreveport | Louisiana | 71101- | 644,736.00
Commonwealth of MA, (DHCD) | 1 Congress St | Boston | Massachusetts | 02114- | 1,093, 000.00
Lebanon Housing Authority | 13 Romano Circle, PO Box 5475 | West Lebanon | New Hampshire | 03784- | 50,328.00
Buffalo Municipal Housing Authority | 300 Perry Street | Buffalo | New York | 14202- | 449,424.00
Columbus Housing Authority | 960 E. Fifth Avenue | Columbus | Ohio | 43201-3096 | 650,600.00
Housing Authority of Skagit County | 2021 E. College Way, Suite 101 | Mount Vernon | Washington | 98273- | 851,928.00
Spokane Housing Authority | West Mission St., Suite 104 | Spokane | Washington | 99201-3298 | 73,188.00

[FR Doc. 00-32308 Filed 12-19-00; 8:45 am]

BILLING CODE 4210-33-M